DEPARTMENT OF COMMERCE

National Oceanic and Atmospheric Administration

[Docket No. 030602141-6143-38; I.D. 051906D]

RIN 0648-ZB55

Availability of Grant Funds for Fiscal Year 2007

AGENCY: National Oceanic and Atmospheric Administration (NOAA), Department of Commerce (DOC).

ACTION: Notice.

SUMMARY: The National Oceanic and Atmospheric Administration publishes this notice to provide the general public with a consolidated source of program and application information related its competitive grant and cooperative agreement (CA) award offerings for fiscal year (FY) 2007. This Omnibus notice is designed to replace the multiple Federal Register notices that traditionally advertised the availability of NOAA's discretionary funds for its various programs. It should be noted that additional program initiatives unanticipated at the time of the publication of this notice may be announced through subsequent Federal Register notices. All announcements will also be available through the Grants.gov website.

In addition, this notice announces information related to a non-competitive financial assistance project to be administered by NOAA. This project will award federal financial assistance to the National Undersea Research Center at the University of Hawaii to administer competitive coral reef research grant programs for the Caribbean, Southeastern United States, Florida, the Gulf of Mexico, Hawaii and the Western Pacific.

DATES: Proposals must be received by the date and time indicated under each program listing in the SUPPLEMENTARY INFORMATION section of this notice.

ADDRESSES: Proposals must be submitted to the addresses listed in the SUPPLEMENTARY INFORMATION section of this notice for each program. The FR and Full Funding Opportunity (FFO) notices may be found on the Grants.gov Web site. The URL for Grants.gov is http://www.grants.gov.

FOR FURTHER INFORMATION CONTACT: Please contact the person listed within this notice as the information contact under each program.

SUPPLEMENTARY INFORMATION: Applicants must comply with all requirements contained in the FFO announcements for each of the programs listed in this omnibus notice. These FFOs are available at http://www.grants.gov.

The list of entries below describe the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

NOAA Project Competitions

This omnibus notice describes funding opportunities for the following NOAA discretionary grant programs:

National Environmental Satellite, Data and Information Service

1. Research in Satellite Data Assimilation for Numerical Weather, Climate, and Environmental Forecast Systems.

National Marine Fisheries Service

1. Atlantic Sea Scallop Research Set-Aside Program FY 2007

2. Chesapeake Bay Watershed Education & Training (B-WET) Program

3. Community-based Habitat Restoration National and Regional Partnerships

4. Community-based Habitat Restoration Project Grants

5. Community-based Marine Debris Prevention and Removal Project Grants

6. Cooperative Research Program FY 2007

7. NOAA Coral Reef Conservation Grant Program - General Coral Reef Conservation Grants

8. Implementation of Marine Protected Areas, Southern California Coast

9. John H. Prescott Marine Mammal Rescue Assistance Grant Program

10. MARFIN Fisheries Initiative Program (MARFIN) FY 2007

11. Monkfish Research Set-Aside Program

12. Montrose Settlements Restoration Program Outreach and Education Mini-grants

13. National Estuarine Research Reserves System FY 2007 Land Acquisition and Construction Competitive Program

14. Projects to Improve or Amend Coral Reef Fishery Management Plans Grant Program

15. Protected Species Cooperative Conservation

16. Restoration of Full Tidal Exchange Wetlands, Southern California Coast

National Ocean Service

1. California Bay Watershed Education and Training (B-WET) Program- Meaningful Watershed Experiences for San Francisco, Monterey, and Santa Barbara

2. Bay Watershed Education and Training-B-WET Hawaii

3. FY 2007 Climate and Weather Impacts on Society and the Environment (CWISE), FY 2007

4. Coastal Hypoxia Research Program (CHRP)

5. Reef Ecosystem Studies (CRES)

6. Cumulative Impacts of Multiple Stressors (MultiStress)

7. Information Resource Supporting the Resiliency of Coastal Areas in the US Portion of the Gulf of Mexico

8. Monitoring and Event Response for Harmful Algal Blooms (MERHAB)

9. NOAA Coral Reef Conservation Grant Program - International Coral Reef Conservation Grants

10. NOAA Coral Reef Conservation Grant Program - State and Territory Coral Reef Ecosystem Monitoring Grant

11. NOAA Coral Reef Conservation Grant Program - State and Territory Coral Reef Management Grants

National Weather Service

1. Automated Flood Warning Systems (AFWS) Program

2. Collaborative Science, Technology, and Applied Research (CSTAR) Program

3. Hydrologic Research

Oceans and Atmospheric Research

1. Administration of NOAA's Graduate Sciences Program

2. Administration of NOAA's Undergraduate Scholarship Program

3. Ballast Water Technology Demonstration Program Competitive Funding Announcement (Research, Development, Testing and Evaluation Facility)

4. Ballast Water Technology Demonstration Program Competitive Funding Announcement (Treatment Technology Demonstration Projects)

5. Joint Hurricane Testbed

6. National Sea Grant College Program Aquatic Invasive Species Research and Outreach

7. NOAA Office of Ocean Exploration Announcement of Opportunity, FY 2007

8. Sea Grant - The Gulf of Mexico Oyster Industry Program (GOIP)

9. Sea Grant - Oyster Disease Research Program (ODRP)

NOAA Fellowship, Scholarship and Internship Programs

National Ocean Service

1. Dr. Nancy Foster Scholarship Program; Financial Assistance for Graduate Students

2. National Estuarine Research Reserve (NERR) Graduate Research Fellowship Program (GRF)

Ocean and Atmospheric Research

1. GradFell 2008 Dean John A. Knauss Marine Policy Fellowship (Knauss Fellowship Program)

2. GradFell 2007 NMFS - Sea Grant Joint Graduate Fellowship Program in Marine Resource Economics

3. Gradfell 2007 NMFS - Sea Grant Joint Graduate Fellowship Program in Population Dynamics

Non-Competitive Projects Announcement

The entry below provides information for a non-competitive project administered by NOAA. To receive an award for this project, an eligible applicant must submit a complete and responsive application to the appropriate program office. An award is made upon conclusion of the evaluation and selection process for the respective project.

Oceans and Atmospheric Research

1. NOAA Coral Reef Conservation Grant Program - Coral Reef Ecosystem Research Grants

NOAA Mission Goals

The mission of the agency is to understand and predict changes in the Earth's environment and conserve and manage coastal and marine resources to meet our Nation's economic, social, and environmental needs. Below is a listing of the program solicitations that generally fall under one or more areas of NOAA's strategic plan, i.e., mission goals. It is imperative that potential applicants tie their proposals to one of the mission goals. Program solicitations are provided from each of the five operating units within NOAA.

NOAA Project Competitions listed by NOAA Mission Goals

1. Protect, restore and manage the use of coastal and ocean resources through ecosystem-based management.

SUMMARY DESCRIPTION: Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world. Funded proposals should help achieve the following outcomes:

A. Healthy and productive coastal and marine ecosystems that benefit society; and

B. A well-informed public that acts as a steward of coastal and marine ecosystems

Program Names:

1. 2007 Atlantic Sea Scallop Research Set-Aside Program

2. Community-based Habitat Restoration Project Grants

3. Community-based Habitat Restoration National and Regional Partnerships

4. Cooperative Research Program FY 2007

5. Marfin Fisheries Initiative Program (MARFIN) FY 2007

6. Monkfish Research Set-Aside Program

7. Montrose Settlements Restoration Program Outreach and Education Mini-grants

8. Projects to Improve or Amend Coral Reef Fishery Management Plans Grant Program

9. Restoration of Full Tidal Exchange Wetlands, Southern California Coast

10. Implementation of Marine Protected Areas, Southern California Coast

11. Protected Species Cooperative Conservation

12. Community-based Marine Debris Prevention and Removal Project Grants

13. NOAA Coral Reef Conservation Grant Program - General Coral Reef Conservation Grants

14. John H. Prescott Marine Mammal Rescue Assistance Grant Program

15. Chesapeake Bay Watershed Education & Training (B-WET) Program

16. Coastal Hypoxia Research Program (CHRP)

17. Coral Reef Ecosystem Studies (CRES)

18. Cumulative Impacts of Multiple Stressors (MultiStress)

19. Monitoring and Event Response for Harmful Algal Blooms (MERHAB)

20. NOAA Coral Reef Conservation Grant Program - State and Territory Coral Reef Ecosystem Monitoring Grant

21. NOAA Coral Reef Conservation Grant Program - State and Territory Coral Reef Management Grant

22. NOAA Coral Reef Conservation Grant Program - International Coral Reef Conservation Grant

23. California Bay Watershed Education and Training (B-WET) Program- Meaningful Watershed Experiences for San Francisco, Monterey, and Santa Barbara

24. Bay Watershed Education and Training-B-WET Hawaii

25. Ballast Water Technology Demonstration Program Competitive Funding Announcement (Treatment Technology Demonstration Projects)

26. National Sea Grant College Program Aquatic Invasive Species Research and Outreach

27. Grant - The Gulf of Mexico Oyster Industry Program (GOIP)

28. Sea Grant - Oyster Disease Research Program (ODRP)

29. NOAA Office of Ocean Exploration Announcement of Opportunity, FY 2007

30. National Estuarine Research Reserve (NERR) Graduate Research Fellowship Program (GRF)

31. GradFell 2008 Dean John A. Knauss Marine Policy Fellowship (Knauss Fellowship Program)

32. GradFell 2007 NMFS - Sea Grant Joint Graduate Fellowship Program in Marine Resource Economics

33. Gradfell 2007 NMFS - Sea Grant Joint Graduate Fellowship Program in Population Dynamics

34. National Estuarine Research Reserves System FY 2007 Land Acquisition and Construction Competitive Program

2. Understand climate variability and change to enhance society's ability to plan and respond.

SUMMARY DESCRIPTION: Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy - property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

A. A predictive understanding of the global climate system on time scales of weeks to decades with quantified uncertainties sufficient for making informed and reasoned decisions; and

B. Climate-sensitive sectors and the climate-literate public effectively incorporating NOAA's climate products into their plans and decisions.

Program Names:

1. FY 2007 Climate and Weather Impacts on Society and the Environment (CWISE)

3. Serve society's needs for weather and water information.

SUMMARY DESCRIPTION: Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and non-governmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

A. Reduced loss of life, injury, and damage to the economy;

B. Better, quicker, and more valuable weather and water information to support improved decisions; and

C. Increased customer satisfaction with weather and water information and services.

Program Names:

1. FY2007 Information Resource Supporting the Resiliency of Coastal Areas in the US Portion of the Gulf of Mexico

2. Automated Flood Warning Systems (AFWS) Program

3. Collaborative Science, Technology, and Applied Research (CSTAR) Program

4. Hydrologic Research

5. Joint Hurricane Testbed

4. Support the Nation's commerce with information for safe, efficient, and environmentally sound transportation.

SUMMARY DESCRIPTION: Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather-related air-traffic delays. Improved surface weather forecasts and specific user warnings would reduce the 7,000 weather related fatalities and 800,000 injuries that occur annually from crashes on roads and highways. The injuries, loss of life, and property damage from weather-related crashes cost an average of $42 billion annually.

We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

A. Safe, secure, efficient, and seamless movement of goods and people in the U.S. transportation system; and

B. Environmentally sound development and use of the U.S. transportation system.

Program Names:

1. Ballast Water Technology Demonstration Program Competitive Funding Announcement (Research, Development, Testing and Evaluation Facility)

2. Ballast Water Technology Demonstration Program Competitive Funding Announcement (Treatment Technology Demonstration Projects)

5. Provide critical support for NOAA's mission

SUMMARY DESCRIPTION: Strong, effective, and efficient support activities are necessary for us to achieve our Mission Goals. Our facilities, ships, aircraft, environmental satellites, data-processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies.

NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology.

Leadership development and program support are essential for achieving our Mission Goals. We must also commit to organizational excellence through management and leadership across a “corporate” NOAA. We must continue our commitment to valuing NOAA's diverse workforce, including effective workforce planning strategies designed to attract, retain and develop competencies at all levels of our workforce. Through the use of business process reengineering, we will strive for state-of-the-art, value-added financial and administrative processes. NOAA will ensure state-of-the-art and secure information technology and systems. By developing long-range, comprehensive facility planning processes NOAA will be able to ensure right-sized, cost-effective, and safe facilities.

Funded proposals should help achieve the following outcomes:

A. A dynamic workforce with competencies that support NOAA's mission today and in the future.

Program Names:

1. Administration of NOAA's Graduate Sciences Program

2. Dr. Nancy Foster Scholarship Program; Financial Assistance for Graduate Students

3. Gradfell 2007 NMFS - Sea Grants Joint Graduate Fellowship Program in Population Dynamics

Non-Competitive Projects Announcement

1. Protect, restore and manage the use of coastal and ocean resources through ecosystem-based management. See SUMMARY DESCRIPTION above.

1. NOAA Coral Reef Conservation Grant Program - Coral Reef Ecosystem Research Grants

Electronic Access

The full funding announcement for each program is available via the Grants.gov Web site: http://www.grants.gov. These announcements will also be available by contacting the program official identified below. You will be able to access, download and submit electronic grant applications for NOAA Programs in this announcement at http://www.grants.gov. The closing dates will be the same as for the paper submissions noted in this announcement. NOAA strongly recommends that you do not wait until the application deadline date to begin the application process through Grants.gov. Getting started with Grants.gov is easy! Go to http://www.grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1 Find Grant Opportunity for Which You Would Like to Apply

Start your search for Federal government-wide grant opportunities and register to receive automatic email notifications of new grant opportunities or any modifications to grant opportunities as they are posted to the site by clicking the Find Grant Opportunities tab at the top of the page.

Get Started Step 2 Register with Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3 Register with the Credential Provider

You must register with a Credential Provider to receive a username and password. This will be required to securely submit your grant application.

Get Started Step 4 Register with Grants.gov

The final step in the Get Started process is to register with Grants.gov. This will be required to submit grant applications on behalf of your organization. After you have completed the registration process, you will receive email notification confirming that you are able to submit applications through Grants.gov.

Get Started Step 5 Log on to Grants.gov

After you have registered with Grants.gov, you can log on to Grants.gov to verify if you have registered successfully, to check application status, and to update information in your applicant profile, such as your name, telephone number, email address, and title. In the future, you will have the ability to determine if you are authorized to submit applications through Grants.gov on behalf of your organization.

Electronic Application File Format and Naming Conventions

After the initial grant application package has been submitted to NOAA (e.g., via Grants.gov), requests for additional or modified forms may be requested by NOAA. Applicants should resubmit forms in Portable Document File Format (PDF) and follow the following file naming convention to name resubmitted forms. For example: 98042_SF-424_mmddyy_v2.pdf.

(1) 98042 = Proposal # (provided to applicant by Grants.gov &NOAA)

(2) SF-424 = Form Number

(3) mmddyy = Date

(4) v2 = Version Number

To learn how to convert documents to PDF go to: http://www.grants.gov/assets/PDFConversion.pdf.

Evaluation Criteria and Selection Procedures

NOAA standardized the evaluation and selection process for its competitive assistance programs. All proposals submitted in response to this notice shall be evaluated and selected in accordance with the following procedures. There are two sets of evaluation criteria and selection procedures, one for project proposals, and the other for fellowship, scholarship, and internship programs. These evaluation criteria and selection procedures apply to all of the programs included below.

Proposal Review and Selection Process for Projects

Some programs may include a pre-application process which provides an initial review and feedback to the applicants that have responded to a call for letters of intent or pre-proposals; however, not all programs will include such a process. If a pre-application process is used by a program, it shall be described in the Summary Description and the deadline shall be provided in the Application Deadline section. Upon receipt of a full application by NOAA, an initial administrative review is conducted to determine compliance with requirements and completeness of the application. A merit review is conducted to individually evaluate, score, and rank applications using the evaluation criteria. A second merit review may be conducted on the applicants that meet the program's threshold (based on scores from the first merit review) to make selections using the selection factors provided below. Merit review is conducted by mail reviewers and/or peer panel reviewers. Each reviewer will individually evaluate and rank proposals using the evaluation criteria provided below. No consensus advice shall be provided by either merit review group if there are any non-Federal members. A minimum of three merit reviewers per proposal is required. The merit reviewer's ratings are used to produce a rank order of the proposals. The NOAA Program Officer may review the ranking of the proposals and make recommendations to the Selecting Official based on the mail and/or panel review(s) and selection factors listed below. The Selecting Official selects proposals after considering the mail and/or peer panel review(s) and recommendations of the Program Officer. In making the final selections, the Selecting Official will award in rank order unless the proposal is justified to be selected out of rank order based upon one or more of the selection factors below. The Program Officer and/or Selecting Official may negotiate the funding level of the proposal. The Selecting Official makes final recommendations for award to the Grants Officer who is authorized to obligate the funds.

Evaluation Criteria for Projects

1. Importance and/or relevance and applicability of proposed project to the program goals: This ascertains whether there is intrinsic value in the proposed work and/or relevance to NOAA, federal, regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Selection Factors for Projects

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other federal agencies.

4. Program priorities and policy factors.

5. Applicant's prior award performance.

6. Partnerships and/or Participation of targeted groups.

7. Adequacy of information necessary for NOAA staff to make a NEPA determination and draft necessary documentation before recommendations for funding are made to the Grants Officer.

Proposal Review and Selection Process for NOAA Fellowship, Scholarship and Internship Programs

Some programs may include a pre-application process which provides an initial review and feedback to the applicants that have responded to a call for letters of intent or pre-proposals; however, not all programs will include such a process. If a pre-application process is used by a program, it shall be described in the Summary Description and the deadline shall be provided in the Application Deadline section. An initial administrative review of full applications is conducted to determine compliance with requirements and completeness of applications. A merit review is conducted to individually evaluate, score, and rank applications using the evaluation criteria. A second merit review may be conducted on the applicants that meet the program's threshold (based on scores from the first merit review) to make selections using the selection factors provided below. The Program Officer may conduct a review of the rank order and make recommendations to the Selecting Official based on the panel ratings and the selection factors listed below. The Selecting Official considers merit reviews and recommendations. The Selecting Official will award in rank order unless the proposal is justified to be selected out of rank order based upon one or more of the selection factors below. The Selecting Official makes final recommendations for award to the Grants Officer who is authorized to obligate the funds.

Evaluation Criteria for Fellowship/Scholarships/Internships

1. Academic record and statement of career goals and objectives of student

2. Quality of project and applicability to program priorities

3. Recommendations and/or endorsements of student

4. Additional relevant experience related to diversity of education; extra-curricular activities; honors and awards; interpersonal, written, and oral communications skills

5. Financial need of student

Selection Factors for Fellowship/Scholarships/Internships

1. Balance/Distribution of funds:

a. Across academic disciplines

b. By types of institutions

c. Geographically

2. Availability of funds

3. Program-specific objectives

4. Degree in scientific area and type of degree sought

NOAA Project Competitions

National Environmental Satellite, Data, and Information Service

1. Research in Satellite Data Assimilation for Numerical Weather, Climate, and Environmental Forecast Systems.

SUMMARY DESCRIPTION: The National Environmental Satellite, Data, and Information Service (NESDIS), Office of Research and Applications (ORA) and the Joint Center for Satellite Data Assimilation (JCSDA) announces the availability of Federal assistance for research in the area of Satellite Data Assimilation in Numerical Weather, Climate, and Environmental Forecast Systems. The goal of the JCSDA is to accelerate the use of observations from earth-orbiting satellites in operational numerical prediction models for the purpose of improving weather, ocean mesoscale, and other environmental forecasts, improving seasonal to interannual climate forecasts, and increasing the physical accuracy of climate reanalysis. The advanced instruments of current and planned NOAA, NASA, DOD, and international agency satellite missions will provide large volumes of data on atmospheric, oceanic, and land surface conditions with accuracies and spatial resolutions never before achieved. The JCSDA will strive to ensure that the Nation realizes the maximum benefit of its investment in space as part of an advanced global observing system. Funded proposals will help accelerate the use of satellite data from both operational and experimental spacecraft in operational weather, ocean mesoscale, climate, and environmental prediction environments, improve community radiative transfer models and surface emissivity models, improve characterization of the error covariances related to forecast models, radiative transfer models and satellite observations, and advance data assimilation science. The program priorities for this opportunity support NOAA's mission support goal of: Weather and Water - Serve Society's Needs for Weather and Water Information.

FUNDING AVAILABILITY: The total amount available for proposals is anticipated to be approximately $600,000 per year. Individual annual awards in the form of grants or cooperative agreements are expected to range from $50,000 per year to a maximum of $150,000 per year for no more than three years, although greater amounts may be awarded. It is anticipated that 4-6 awards will be made.

STATUTORY AUTHORITY: Statutory authority for this program is provided under 15 U.S.C. 313, 49 U.S.C. 44720(b); 15 U.S.C. 2901 et seq.

CATALOG OF FEDERAL DOMESTIC ASSISTANCE (CFDA) NUMBER: 11.440, Environmental Sciences, Applications, Data, and Education.

APPLICATION DEADLINE: Letters of Intent (LOI) must be received no later than 5 p.m. eastern daylight time, August 11, 2006, and full proposals must be received by NOAA/NESDIS no later than 5 p.m. eastern daylight time, October 2, 2006.

ADDRESS FOR SUBMITTING PROPOSALS: Letters of Intent should be emailed to James.G.Yoe@noaa.gov or may be mailed or faxed to the JSCDA. Proposals must be submitted electronically via http://www.grants.gov, or as hard copy (by postal mail, commercial delivery service, or hand delivery) to: ATTN: James G. Yoe, NOAA/NESDIS Joint Center for Satellite Data Assimilation, 5200 Auth Rd., Room 808, Camp Springs, MD 20746.

INFORMATION CONTACTS: Administrative questions: Ms. Patty Mayo, by phone at 301-763-8127 ext. 107, fax: 301-763-8108, or e-mail: Patty.Mayo@noaa.gov. Technical questions: James G. Yoe (NOAA Program Officer), by phone at 301-763-8172 ext. 186, fax to 301-763-8149, or via e-mail: James.G.Yoe@noaa.gov.

ELIGIBILITY: Eligible applications can be from U.S. institutions of higher education, other non-profits, commercial organizations, and state, local and Indian tribal governments. U.S. Federal agencies or institutions are eligible to receive Federal assistance under this Notice. PLEASE NOTE: Before non-NOAA Federal applicants may be funded, they must demonstrate that they have legal authority to receive funds from another Federal agency in excess of their appropriation. The only exception to this is governmental research facilities for awards issued under the authority of 49 USC 44720(b). Because this announcement is not proposing to procure goods or services from applicants, the Economy Act (31 USC 1535) is not an appropriate legal basis.

COST SHARING REQUIREMENTS: None.

INTERGOVERNMENTAL REVIEW: Applications under this program are not subject to Executive Order 12372, “Intergovernmental Review of Federal Programs.”

National Marine Fisheries Service (NMFS)

1. 2007 Atlantic Sea Scallop Research Set-Aside Program

SUMMARY DESCRIPTION: The National Marine Fisheries Service (NMFS) requests research proposals for the 2007 scallop fishing year (March 1, 2007 - February 28, 2008) to utilize portions of the total allowable catch (TAC) and Days-at-Sea (DAS) set-asides proposed by the New England Fishery Management Council (Council) in Framework 18 to the Sea Scallop Fishery Management Plan (Framework 18). The set-asides are to be used for sea scallop research endeavors under a research set-aside (RSA) program. The RSA Program provides a mechanism to fund research through the sale of fish harvested under the research quota. Vessels participating in an approved research project may be authorized by the Administrator, Northeast Region, NMFS (Regional Administrator), to harvest and to land species in excess of any imposed trip limit or during fishery closures. Landings from such trips would be sold to generate funds that would compensate participating vessel owners and help defray the costs associated with research projects. No Federal funds will be provided for research under this notification. The program priorities for this opportunity support NOAA's mission support goal of: Ecosystems - Protect, Restore, and Manage Use of Coastal and Ocean Resources through Ecosystem-Based Management.

FUNDING AVAILABILITY: In order to set a value on the RSAs, the value of scallops must be estimated. This Federal Funding Opportunity (FFO) uses an estimated price per pound of $7.25 based on the average 2005 (March through October) price per pound calculated from dealer reports. In addition, based on the Council's analysis in Framework 18, the daily catch rate was calculated to be 1,746 lb (792 kg) per DAS. By requiring researchers to use these values in requesting TAC and DAS, all proposals will relate scallop catch to research costs similarly.

Research proposals are sought to utilize the four set-asides proposed by Framework 18 for the 2007 fishing year. With the value for the scallops estimated as $7.25 per lb, the estimated TAC values are estimated as follows: (1) The DAS set-aside for the open fishing areas is 330 DAS with a value of $4,177,305; (2) the research TAC set-aside for the NLS Access Area is 157,454 lb (71 mt), with a value of $1,141,542; (3) the research TAC set-aside for the CAI Access Area is 86,414 lb (39 mt), with a value of $626,502; and (4) the research TAC set-aside for the ET Access Area is 544,000 lb (247 mt), with a value of $3,944,000. Thus, for fishing year 2007, the total value of the set-asides available for scallop-related research is approximately $9,889,350 (42% from the open area DAS set-aside, 12% from the NLS Access Area, 6% from the CAI Access Area and 40% from the ET Access Area). Researchers must specify the amount of set-aside (TAC or DAS, as appropriate) sought from each area.

If 2006 scallop resource surveys indicate the exploitable biomass in the Elephant Trunk Access Area is lower than current projections, Framework 18 proposes three scenarios to reduce the 2007 TAC. If an adjustment is necessary, it will be finalized on or about December 1, 2006.

Elephant Trunk Access Area Adjustment Table
| Less than 50.5 million lb (mlb) (22,920 mt) | 50.5 to 63.1 mlb (22,920 to 28,650 mt) | 63.2 to 75.7 mlb (28,651 to 34,380 mt) | Greater than 75.8 mlb (34,381 mt)
Adjusted 2007 ET RSA TAC | 228,000 lb (103 mt) | 346,000 lb (157 mt) | 461,000 lb (209 mt) | No adjustment 544,000 lb (247 mt)

STATUTORY AUTHORITY: Issuing grants is consistent with sections 303(b)(11), 402(e), and 404(c) of the Magnuson-Stevens Fishery Conservation and Management Act, 16 U.S.C. 1853(b)(11), 16 U.S.C. 1881a(e), and 16 U.S.C. 1881(c), respectively.

CATALOG OF FEDERAL DOMESTIC ASSISTANCE (CFDA) Number: 11.454, Unallied Management Projects

APPLICATION DEADLINE: Full proposals must be received by 5 p.m., eastern daylight time, on August 11, 2006.

ADDRESS FOR SUBMITTING PROPOSALS: Proposals may be submitted electronically via http://www.grants.gov, or as hard copy (by postal mail, commercial delivery service, or hand delivery) to NMFS, Northeast Regional Office, Attention: 2007 Sea Scallop Research Proposals, One Blackburn Drive, Gloucester, MA 01930.

INFORMATION CONTACTS: For administrative questions about the research set aside program contact Ryan Silva (One Blackburn Drive, Gloucester, MA 01930), by phone (978) 281-9326, fax (978) 281-9135, or e-mail ryan.silva@noaa.gov. For an application kit contact Rich Maney (One Blackburn Drive, Gloucester, MA 01930), by phone (978) 281-9265, fax (978) 281-9117, or e-mail rich.maney@noaa.gov. For information on the Atlantic Sea Scallop Fishery Management Plan (FMP), as it relates to this funding opportunity, contact Deirdre Boelke, New England Fishery Management Council, phone (978) 465-0492, or Ryan Silva, by phone (978) 281-9326, fax (978) 281-9135, or e-mail ryan.silva@noaa.gov.

ELIGIBILITY: 1. Eligible applicants include institutions of higher education, hospitals, other nonprofits, commercial organizations, individuals, state, local, and Native American tribal governments. Federal agencies and institutions are not eligible to receive Federal assistance under this notice. Additionally, employees of any Federal agency or Regional Fishery Management Council (Council) are ineligible to submit an application under this program. However, Council members who are not Federal employees may submit an application.

2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions.

3. DOC/NOAA encourages applications from members of the fishing community and applications that involve fishing community cooperation and participation.

COST SHARING REQUIREMENTS: None.

INTERGOVERNMENTAL REVIEW: Applicants will need to determine if their State participates in the intergovernmental review process. This information can be found at the following Web site: http://www.whitehouse.gov/omb/grants/spoc.html. This information will assist applicants in providing either a Yes or No response to Item 16 of the Application Form, SF-424, entitled “Application for Federal Assistance.”

2. Community-based Habitat Restoration Project Grants

SUMMARY DESCRIPTION: NMFS is inviting the public to submit proposals for available funding to implement grass-roots habitat restoration projects that will benefit living marine resources, including anadromous fish, under the NOAA Community-based Restoration Program. Projects funded through the Community-based Restoration Program will be expected to have strong on-the-ground habitat restoration components that provide long-term ecological habitat improvements for NOAA trust resources as well as educational and social benefits for people and their communities. Proposals selected for funding through this solicitation will be implemented through a cooperative agreement. The program priorities for this opportunity support NOAA's mission support goal of: Ecosystems - Protect, Restore, and Manage Use of Coastal and Ocean Resources through Ecosystem-Based Management.

FUNDING AVAILABILITY: Funding of up to $3,000,000 is expected to be available for Community-based Habitat Restoration Project Grants in FY 2007. The NOAA Restoration Center (RC) anticipates that typical project awards will range from $50,000 to $200,000.

STATUTORY AUTHORITY: The Secretary of Commerce is authorized under the Fish and Wildlife Coordination Act, 16 U.S.C. 661, as amended by the Reorganization Plan No. 4 of 1970, to provide grants or cooperative agreements for fisheries habitat restoration.

CATALOG OF FEDERAL DOMESTIC ASSISTANCE (CFDA) NUMBER: 11.463 Habitat Conservation.

APPLICATION DEADLINE: Applications for project funding under the Community-based Restoration Program must be submitted by September 28, 2006 11:59 PM EDT if submitted via grants.gov , or if mailed, postmarked by September 28, 2006.

ADDRESS FOR SUBMITTING PROPOSALS: Applicants should apply through http://www.grants.gov. If unable to reasonably apply through grants.gov, send paper applications to Christopher D. Doley, Chief, NOAA Restoration Center, National Marine Fisheries Service, 1315 East West Highway (F/HC3), Rm. 14727, Silver Spring, MD 20910-3282; ATTN: CRP Project Applications.

INFORMATION CONTACT(S): Cathy Bozek or Melanie Gange at (301) 713-0174, or by fax at (301) 713-0184, or by e-mail at Cathy.Bozek@noaa.gov or Melanie.Gange@noaa.gov.

ELIGIBILITY: Eligible applicants are institutions of higher education, hospitals, other non-profits, commercial (for profit) organizations, organizations under the jurisdiction of foreign governments, international organizations, state, local and Indian tribal governments whose projects have the potential to benefit NOAA trust resources. Applications from federal agencies or employees of federal agencies will not be considered.

COST SHARING REQUIREMENTS: 1:1 non-Federal match is encouraged, but applicants with less than 1:1 match will not be disqualified.

INTERGOVERNMENTAL REVIEW: Applications under this program are subject to Executive Order 12372, “Intergovernmental Review of Federal Programs.”

3. Community-based Habitat Restoration National and Regional Partnerships

SUMMARY DESCRIPTION: NMFS is inviting the public to submit multi-year proposals for establishing innovative habitat restoration partnerships at the national or regional level for up to 3 years to further community-based habitat restoration that will benefit living marine resources, including anadromous fish, under the NOAA Community-based Restoration Program (CRP). Proposals for partnerships funded through the CRP will involve joint selection and co-funding of multiple community-based habitat restoration projects as sub-awards made through the partner organization. Proposals selected for funding through this solicitation will be implemented through a cooperative agreement. The program priorities for this opportunity support NOAA's mission support goal of: Ecosystems - protect, restore, and manage use of coastal and ocean resources through ecosystem-based management.

FUNDING AVAILABILITY: Funding of up to $10 million is expected to be available for establishing multi-year partnerships in FY 2007; annual funding is anticipated to maintain successful partnerships for up to 3 years duration. The NOAA Restoration Center (RC) anticipates that typical partnership awards will range from $200,000 to $600,000 per year, funded annually.

STATUTORY AUTHORITY: The Secretary of Commerce is authorized under the Fish and Wildlife Coordination Act, 16 U.S.C. 661, as amended by the Reorganization Plan No. 4 of 1970, to provide grants or cooperative agreements for fisheries habitat restoration.

CATALOG OF FEDERAL DOMESTIC ASSISTANCE (CFDA) NUMBER: 11.463 Habitat Conservation.

APPLICATION DEADLINE: Applications for partnership funding under the CRP must be submitted by 11:59 p.m. EDT on September 25, 2006 if submitted via Grants.gov, or if mailed, postmarked by September 25, 2006.

ADDRESS FOR SUBMITTING PROPOSALS: Applicants should apply through http://www.grants.gov. If unable to apply through grants.gov, send paper applications to Christopher D. Doley, Chief, NOAA Restoration Center, National Marine Fisheries Service, 1315 East West Highway (F/HC3), Rm. 14701, Silver Spring, MD 20910-3282; ATTN: CRP Partnership Applications.

INFORMATION CONTACT(S): Melanie Gange or Robin Bruckner at (301)713-0174, or by fax at (301) 713-0184, or by e-mail at Melanie.Gange@noaa.gov or Robin.Bruckner@noaa.gov.

ELIGIBILITY: Eligible applicants are institutions of higher education, hospitals, other non-profits, commercial (for profit) organizations, organizations under the jurisdiction of foreign governments, international organizations, state, local and Indian tribal governments whose projects have the potential to benefit NOAA trust resources. Applications from federal agencies will not be considered.

COST SHARING REQUIREMENTS: 1:1 match non-Federal match is encouraged, but applicants with less than 1:1 match will not be disqualified.

INTERGOVERNMENTAL REVIEW: Applications under this program are subject to Executive Order 12372, “Intergovernmental Review of Federal Programs.”

4. Cooperative Research Program (CRP) FY 2007

SUMMARY DESCRIPTION: The NMFS is inviting the public to submit research and development projects that seek to increase and improve the working relationship between researchers from the NMFS, state fishery agencies, universities, and fishermen. The program is a means of involving commercial and recreational fishermen in the collection of fundamental fisheries information. Collection efforts support the development and evaluation of management and regulatory options. Projects accepted for funding will need to be completed within 24 months. The program priorities for this opportunity support NOAA's mission support goal of: Ecosystems - Protect, Restore, and manage Use of Coastal and Ocean Resources through Ecosystem-Based Management.

FUNDING AVAILABILITY: Approximately $2.0 million may be available in fiscal year 2007 for projects. The NMFS Southeast Regional Office estimates awarding eight awards that will range from $25,000 to $400,000. The average award is $150,000.

STATUTORY AUTHORITY: 15 U.S.C. 713c-3(d).

CATALOG OF FEDERAL DOMESTIC ASSISTANCE (CFDA) NUMBER: 11.454 Unallied Management Projects.

APPLICATION DEADLINE: We must receive your application by 5 p.m. eastern daylight time on August 11, 2006. Applications received after that time will not be considered for funding.

ADDRESS FOR SUBMITTING PROPOSALS: Applications should be submitted through http://www.grants.gov. If an applicant does not have Internet access, hard copies should be sent to the National Marine Fisheries Service, State/Federal Liaison Branch, 263 13th Avenue South, St. Petersburg, FL 33701.

INFORMATION CONTACT: Robert Sadler, State/Federal Liaison Branch at (727) 824-5324.

ELIGIBILITY: Eligible applicants include Institutions of higher education, other nonprofits, commercial organizations, state, local and Indian tribal governments and individuals. Federal agencies or institutions are not eligible. Foreign governments, organizations under the jurisdiction of foreign governments, and international organizations are excluded for purposes of this solicitation since the objective of the CRP is to optimize research and development benefits from U.S. marine fishery resources.

OTHER INFORMATION: Applicants who are not a commercial or recreational fisherman must have commercial or recreational fisherman participating in their project. There must be a written agreement with a fisherman describing the involvement in the project activity.

All applicants must include a written agreement with a person employed by the National Marine Fisheries Service (NMFS), who will act as a partner in the proposed research project. The NMFS partner will assist the applicant to develop a design (statistical or analytical) for the project to assure that the outcome will provide suitable, scientific data and results to support needed fisheries management information.

COST SHARING REQUIREMENTS: Cost sharing is not required.

INTERGOVERNMENTAL REVIEW: Applications under this program are subject to Executive Order 12372, “Intergovernmental Review of Federal Programs.”

5. Marfin Fisheries Initiative Program (MARFIN) FY 2007

SUMMARY DESCRIPTION: The NMFS is inviting the public to submit research and development projects that will optimize the use of fisheries in the Gulf of Mexico and off the South Atlantic states of North Carolina, South Carolina, Georgia, and Florida involving the U.S. fishing industry (recreational and commercial), including fishery biology, resource assessment, socioeconomic assessment, management and conservation, selected harvesting methods, and fish handling and processing. Proposals may be selected for funding for up to three years through a cooperative agreement. The program priorities for this opportunity support NOAA's mission support goal of: Ecosystems - Protect, Restore, and Manage Use of Coastal and Ocean Resources through Ecosystem-Based Management.

FUNDING AVAILABILITY: Approximately $2.4 million may be available in fiscal year (FY) 2007 for projects. This amount includes possible in-house projects. The NMFS Southeast Regional Office estimates awarding ten projects that will range from $35,000 to $300,000. The average award is $100,000.

STATUTORY AUTHORITY: 15 U.S.C. 713c-3(d).

CATALOG OF FEDERAL DOMESTIC ASSISTANCE (CFDA) NUMBER: 11.433 Marine Fisheries Initiative.

APPLICATION DEADLINE: We must receive your application by close of business (5 p.m. eastern daylight time) on July 12, 2006. Applications received after that time will not be considered for funding.

ADDRESS FOR SUBMITTING PROPOSALS: Applications should be submitted through http://www.grants.gov. If an applicant does not have Internet access, hard copies should be sent to the National Marine Fisheries Service, State/Federal Liaison Branch, 263 13th Avenue South, St. Petersburg, FL 33701.

INFORMATION CONTACT: Scot Plank, State/Federal Liaison Branch at (727) 824-5324.

ELIGIBILITY: Eligible applicants include Institutions of higher education, other nonprofits, commercial organizations, state, local and Indian tribal governments. Federal agencies or institutions are not eligible. Foreign governments, organizations under the jurisdiction of foreign governments, and international organizations are excluded for purposes of this solicitation since the objective of the MARFIN program is to optimize research and development benefits from U.S. marine fishery resources.

COST SHARING REQUIREMENTS: Cost sharing is not required.

INTERGOVERNMENTAL REVIEW: Applications under this program are subject to Executive Order 12372, “Intergovernmental Review of Federal Programs.”

6. Monkfish Research Set-Aside Program

SUMMARY DESCRIPTION: The National Marine Fisheries Service (NMFS) announces that the New England and Mid-Atlantic Fishery Management Councils (Councils) have set aside 500 monkfish days-at-sea (DAS) to be used for research endeavors under a research set-aside (RSA) program. NMFS is soliciting proposals to utilize the DAS for research activities concerning the monkfish fishery for fishing year 2007 (May 1, 2007-April 30, 2008). Through the allocation of research DAS, the Monkfish RSA Program provides a mechanism to reduce the cost for vessel owners to participate in cooperative monkfish research. The intent of this RSA program is for fishing vessels to utilize these research DAS to conduct monkfish related research, rather than their allocated monkfish DAS, thereby eliminating any cost to the vessel associated with using a monkfish DAS. The program priorities for this opportunity support NOAA's mission support goal of: Ecosystems - Protect, Restore, and Manage Use of Coastal and Ocean Resources through Ecosystem-Based Management.

FUNDING AVAILABILITY: No Federal funds are provided for research under this notification. Rather, projects funded under the Monkfish RSA Program would be provided with additional opportunity to harvest monkfish, and the catch sold to generate income to offset research costs. The Federal Government (i.e., NMFS) may issue an Exempted Fishing Permit (EFP), if needed, to provide special fishing privileges in response to research proposals selected under this program. For example, vessels participating in an approved research project may be authorized by the Northeast Regional Administrator, NMFS, to harvest monkfish in excess of established possession limits. Two awards were issued under the 2006 Monkfish RSA Program, and these projects are expected to commence in May 2006. Therefore, information concerning the income generated from those awards is not yet available.

Funds generated from landings harvested and sold under the Monkfish RSA Program shall be used to cover the cost of research activities, including vessel costs. For example, the funds may be used to pay for gear modifications, monitoring equipment, the salaries of research personnel, or vessel operation costs. The Federal Government shall not be liable for any costs incurred in the conduct of the project. Specifically, the Federal Government is not liable for any costs incurred by the researcher or vessel owner should the sale of catch not fully reimburse the researcher or vessel owner for his/her expenses.

STATUTORY AUTHORITY: Issuing grants is consistent with sections 303(b)(11), 402(e), and 404(c) of the Magnuson-Stevens Fishery Conservation and Management Act, 16 U.S.C. 1853(b)(11), 16 U.S.C. 1881a(e), and 16 U.S.C. 1881(c), respectively.

The ability to set aside monkfish DAS for research purposes was established in the final rule implementing Amendment 2 to the Monkfish Fishery Management Plan (70 FR 21927, April 28, 2005), and codified in the regulations at 50 CFR 648.92(c).

CATALOG OF FEDERAL DOMESTIC ASSISTANCE (CFDA) NUMBER: In the Catalog of Federal Domestic Assistance, the program number is 11.454, and the program name is Unallied Management Projects.

APPLICATION DEADLINE: Applications must be received on or before 5 p.m. eastern daylight time on August 11, 2006.

ADDRESS FOR SUBMITTING PROPOSALS: Proposals must be submitted electronically through http://www.grants.gov, or as hard copy (by postal mail, commercial delivery service, or hand delivery) to NMFS, Northeast Regional Office, One Blackburn Drive, Gloucester, MA 01930. Delays may be experienced when registering with Grants On-line near the end of a solicitation period. Therefore, NOAA strongly recommends that applicants do not wait until the deadline date to begin the application process through http://www.grants.gov. Electronic or hard copies received after the deadline will not be considered, and hard copy applications will be returned to the sender.

INFORMATION CONTACTS: Administrative questions: Allison Ferreira, Fishery Policy Analyst, NMFS, by phone 978-281-9103, fax 978-281-9135, or e-mail at allison.ferreira@noaa.gov. Technical questions: Peter Burns, NMFS, Northeast Regional Office, One Blackburn Drive, Gloucester, MA 01930, by phone 978-281-92144, fax 978-281-9117, or email at peter.burns@noaa.gov.

ELIGIBILITY: Eligible applicants include institutions of higher education, hospitals, other non-profits, commercial organizations, individuals, state, local, and Native American tribal governments. Federal agencies and institutions are not eligible to receive Federal assistance under this notice. Additionally, employees of any Federal agency or Regional Fishery Management Council (Council) are ineligible to submit an application under this program. However, Council members who are not Federal employees may submit an application.

COST SHARING REQUIREMENTS: None.

INTERGOVERNMENTAL REVIEW: Applications under ths program are not subject to Executive Order 12372, “Intergovernmental Review of Federal Programs.”

7. Projects to Improve or Amend Coral Reef Fishery Management Plans Grant Program

SUMMARY DESCRIPTION: The NOAA Coral Reef Conservation Grant Program/ Projects to Improve or Amend Coral Reef Fishery Management Plans (CRFMPGP), provides funding to the Regional Fishery Management Councils for projects to conserve and manage coral reef fisheries, as authorized under the Coral Reef Conservation Act of 2000. Projects funded through the CRFMPGP are for activities that 1) provide better scientific information on the status of coral reef fisheries resources, critical habitats of importance to coral reef fishes, and the impacts of fishing on these species and habitats; 2) identify new management approaches that protect coral reef biodiversity and ecosystem function through regulation of fishing and other extractive uses; and 3) incorporate conservation and sustainable management measures into existing or new Federal fishery management plans for coral reef species. Proposals selected for funding will be implemented through a cooperative agreement. The role of NOAA in the CRFMPGP is to help identify potential projects that reduce impacts of fishing on coral reef ecosystems, strengthen the development and implementation of the projects, and assist in coordination and support of these efforts with Federal, state, territory or commonwealth management authorities and various coral reef user groups.

For this solicitation, all applications must fall within at least one of the 7 categories: (1) identification, mapping, characterization, monitoring and protection of critically important habitats of coral reef fishes and associated spawning populations; (2) monitoring reef fish stocks; (3) identification of the adverse impacts of fishing gear and fishing methods and implementation of actions to reduce habitat damage; (4 assessment of the adequacy of current coral reef fishing regulations and revision of regulations as needed; (5) education and outreach efforts to recreational and commercial fishers; (6) enhanced enforcement of fishery regulations and/or no-take fishery resources; and (7) ecosystem-scale studies and inclusion of ecosystem approaches into coral reef FMP's. Proposed projects should provide necessary information and contribute to the identification of specific actions to reduce overfishing of coral reef resources and mitigate habitat damage caused by destructive fishing gears or methods. The program priorities for this opportunity support NOAA's mission support goal of: Ecosystems - Protect, Restore, and Manage Use of Coastal and Ocean Resources through Ecosystem-Based Management.

FUNDING AVAILABILITY: Funding up to $1,050,000 is expected to be available for Projects to Improve or Amend Coral Reef Fishery Management Plans. The NOAA Coral reef Conservation Program anticipates that typical project awards will range from about $175,000 to $525,000. Funding will be subject to the availability of federal appropriations.

STATUTORY AUTHORITY: Authority for the NOAA Coral Reef Conservation Grant Program is provided by Section 6403.

CATALOG OF FEDERAL DOMESTIC ASSISTANCE (CFDA) NUMBER: 11.441 - Regional Fishery Management Councils.

APPLICATION DEADLINE: Applications should be submitted via http://www.grants.gov and must be received no later than 11:59 PM EST on November 10, 2006. If applicants do not have access to Grants.gov, paper applications must be postmarked, or provided to a delivery service and documented with a receipt by Nov. 10, 2006.

ADDRESS FOR SUBMITTING PROPOSALS: Applications should be submitted via http://www.grants.gov. If this site cannot be reasonably used, applications can be sent to: Andrew Bruckner, NOAA Coral Reef Conservation Program, NOAA Fisheries, Office of Habitat Conservation (F/HC), 1315 East West Highway, Silver Spring, MD 20910. ATTN: CRCGP Project Applications.

INFORMATION CONTACT: Administrative questions: Andy Bruckner, 301-713-3459, extension 190 or e-mail at andy.bruckner@noaa.gov.

ELIGIBILITY: Eligible applicants are limited to the Western Pacific Regional Fishery Management Council, the South Atlantic Fishery Management Council, the Gulf of Mexico Fishery Management Council, and the Caribbean Fishery Management Council.

COST SHARING REQUIREMENTS: None.

INTERGOVERNMENTAL REVIEW: Applications under this program are subject to Executive Order 12372, “Intergovernmental Review of Federal Programs.”

8. Montrose Settlements Restoration Program Outreach and Education Mini-grants

SUMMARY DESCRIPTION: In November 2005, the Natural Resource Trustees for the Montrose Settlements Restoration Program (MSRP) released a Restoration Plan. The plan identifies projects for restoring natural resources injured by past releases of DDTs and PCBs into the marine environment off the coast of Southern California www.montroserestoration.gov. These contaminants continue to injure natural resources over a wide region of the Southern California Bight.

The MSRP is funded by settlement agreements entered into by multiple defendants in the case of the United States and the State of California versus Montrose Chemical Corporation of California and other defendants. MSRP restoration priorities include the restoration of fishing opportunities lost as a result of local fish consumption advisories and catch bans now in place. The restoration plan highlights both fish habitat restoration projects and a public education project to address these losses.

MSRP has partnered with Cabrillo Marine Aquarium to create an educational comic book, geared to children at the 4th-6th grade level, which tells the story of DDT and PCB contamination off the coast of Southern California and includes information on ways to enjoy and benefit from fishing despite the presence of fishing advisories. The comic book is available online at www.montroserestoration.gov. The Trustees intend to provide up to $50,000 in seed money (for grants up to $15,000) to develop curricula, programs or activities to educate young people who consume locally-caught fish (and through them, their parents) on safe ways to enjoy or benefit from fishing along the Los Angeles and Orange County coasts where fish consumption advisories have impacted fishing. Projects should use the comic book and/or concepts outlined in the comic book as a basis, and are encouraged to draw from any other educational materials available through the Fish Contamination Education Collaborative www.pvsfish.org as appropriate. The program priorities for this opportunity support NOAA's mission support goal of: Ecosystems - Protect, Restore, and Manage Use of Coastal and Ocean Resources through Ecosystem-Based Management.

FUNDING AVAILABILITY: This solicitation announces that a total amount of $50,000 may be awarded for grants up to $15,000. The number of awards to be made as a result of this solicitation will depend on the number of eligible applications received, the amount of funds requested for initiating restoration projects by the applicants, and the merit and ranking of the proposals.

STATUTORY AUTHORITY: 16 U.S.C. 661-667e, 42 U.S.C. 9601-9626.

CATALOG OF FEDERAL DOMESTIC ASSISTANCE (CFDA) NUMBER: 11.463 Habitat Conservation.

APPLICATION DEADLINE: Applications must be received or postmarked by 5 p.m. eastern time on August 15, 2006.

ADDRESS FOR SUBMITTING PROPOSALS: Applications should either be submitted online through http://www.grants.gov or sent to: NOAA Restoration Center, Attn: Leah Mahan, 777 Sonoma Ave, Suite 325, Santa Rosa, California, 95404, phone (707) 575-6077.

INFORMATION CONTACTS: Leah Mahan, 777 Sonoma Ave, Suite 325, Santa Rosa, California, 95404, phone (707) 575-6077.

ELIGIBILITY: Eligible applicants include institutions of higher education; state, local and Indian tribal governments; federal government agencies; and other nonprofit and commercial organizations or individuals.

COST SHARING REQUIREMENTS: While matching funds are not required, applicants are encouraged to include matching funds using cash or in-kind contributions where possible. If cost sharing is proposed, the respondent is asked to account for both the Trustee and non-Trustee amounts

INTERGOVERNMENTAL REVIEW: Applications under this program are subject to Executive Order 12372, “Intergovernmental Review of Federal Programs.”

9. Restoration of Full Tidal Exchange Wetlands, Southern California Coast

SUMMARY DESCRIPTION: In November 2005, the Natural Resource Trustees for the Montrose Settlements Restoration Program (MSRP) released a Restoration Plan. The plan identifies projects for restoring natural resources injured by past releases of DDTs and PCBs into the marine environment off the coast of Southern California www.montroserestoration.gov. These contaminants continue to injure natural resources over a wide region of the Southern California Bight. The MSRP is funded by settlement agreements entered into by multiple defendants in the case of the United States and the State of California versus Montrose Chemical Corporation of California and other defendants.

As part of the MSRP Restoration Plan, funds are being made available to support coastal wetlands restoration projects in the region that promote the production of commonly caught coastal fish species. NOAA and the other Trustees seek specifically to restore coastal wetland/estuarine habitats in the region that have direct tidal links to the ocean and serve as nursery habitats for fish, especially species that are targeted by ocean anglers. Such actions restore fish and the habitats on which they depend, one of the purposes for which settlement funds may be utilized. Such projects also help restore lost fishing opportunities, to the extent that they increase production of recreationally valuable species that are lower in contamination and eventually inhabit ocean fishing sites. The program priorities for this opportunity support NOAA's mission goal of: Ecosystems - Protect, Restore, and Manage Use of Coastal and Ocean Resources through Ecosystem-Based Management.

FUNDING AVAILABILITY: This solicitation announces that funding of up to $3,000,000 is expected to be available. NOAA and the other Trustees may award portions of available funding to several projects, or up to the full amount of available funding to a single project. There is no guarantee that sufficient funds will be available to make awards for all proposals. The number of awards to be made as a result of this solicitation will depend on the number of eligible applications received, the amount of funds requested for initiating restoration projects by the applicants, and the merit and ranking of the proposals. Applicants for amounts greater than $1,000,000 may at their option consider identifying divisible components of the proposal that may be undertaken for less than the full amount of funding requested in the application.

STATUTORY AUTHORITY: 16 U.S.C. 661-667e, 42 U.S.C. 9601-9626.

CATALOG OF FEDERAL DOMESTIC ASSISTANCE (CFDA) NUMBER: 11.463 Habitat Conservation.

APPLICATION DEADLINE: Applications must be received or postmarked by 5 p.m. eastern time on July 27, 2006.

ADDRESS FOR SUBMITTING PROPOSALS: Applications should either be submitted online via http://www.grants.gov or sent to: NOAA Restoration Center, Attn: Leah Mahan, 777 Sonoma Ave, Suite 325, Santa Rosa, California, 95404, phone (707) 575-6077.

INFORMATION CONTACTS: Leah Mahan, 777 Sonoma Ave, Suite 325, Santa Rosa, California, 95404, phone (707) 575-6077.

ELIGIBILITY: Eligible applicants include institutions of higher education; state, local and Indian tribal governments; federal government agencies; and other nonprofit and commercial organizations or individuals.

COST SHARING REQUIREMENTS: While matching funds are not required, applicants are encouraged to include matching funds using cash or in-kind contributions where possible. If cost sharing is proposed, the respondent is asked to account for both the Trustee and non-Trustee amounts.

INTERGOVERNMENTAL REVIEW: Applications under this program are subject to Executive Order 12372, “Intergovernmental Review of Federal Programs.”

10. Implementation of Marine Protected Areas, Southern California Coast

SUMMARY DESCRIPTION: In November 2005, the Natural Resource Trustees for the Montrose Settlements Restoration Program (MSRP) released a Restoration Plan. The plan identifies projects for restoring natural resources injured by past releases of DDTs and PCBs into the marine environment off the coast of Southern California www.montroserestoration.gov. These contaminants continue to injure natural resources over a wide region of the Southern California Bight. The MSRP is funded by settlement agreements entered into by multiple defendants in the case of the United States and the State of California versus Montrose Chemical Corporation of California and other defendants.

As part of the MSRP Restoration Plan, funds are being made available to support the Implementation of Marine Protected Areas in the region that promotes the production of commonly caught coastal fish species. NOAA and the other Trustees seek specifically to support projects directed towards evaluating the effectiveness of Marine Protected Areas (MPAs) as a management tool for promoting ecosystem health and sustainable fishing in California Marine waters. The program priorities for this opportunity support NOAA's mission support goal of: Ecosystems - Protect, Restore, and Manage Use of Coastal and Ocean Resources through Ecosystem-Based Management.

FUNDING AVAILABILITY: This solicitation announces that funding of up to $400,000 is expected to be available. NOAA and the other Trustees may award portions of available funding to several projects, or up to the full amount of available funding to a single project. There is no guarantee that sufficient funds will be available to make awards for all proposals. The number of awards to be made as a result of this solicitation will depend on the number of eligible applications received, the amount of funds requested for initiating restoration projects by the applicants, and the merit and ranking of the proposals.

STATUTORY AUTHORITY: 16 U.S.C. 661-667e, 42 U.S.C. 9601-9626.

CATALOG OF FEDERAL DOMESTIC ASSISTANCE (CFDA) NUMBER: 11.463 Habitat Conservation.

APPLICATION DEADLINE: Applications must be received or postmarked by 5 p.m. Eastern Time on September 15, 2006.

ADDRESS FOR SUBMITTING PROPOSALS: Applications should either be submitted online via http://www.grants.gov or sent to: NOAA Restoration Center, Attn: Leah Mahan, 777 Sonoma Ave, Suite 325, Santa Rosa, California, 95404, phone (707) 575-6077.

INFORMATION CONTACTs: Leah Mahan, 777 Sonoma Ave, Suite 325, Santa Rosa, California, 95404, phone (707) 575-6077.

ELIGIBILITY: Eligible applicants include institutions of higher education; state, local and Indian tribal governments; federal government agencies; and other nonprofit and commercial organizations or individuals.

COST SHARING REQUIREMENTS: While matching funds are not required, applicants are encouraged to include matching funds using cash or in-kind contributions where possible. If cost sharing is proposed, the respondent is asked to account for both the Trustee and non-Trustee amounts

INTERGOVERNMENTAL REVIEW: Applications under this program are subject to Executive Order 12372, “Intergovernmental Review of Federal Programs.”

11. Protected Species Cooperative Conservation

SUMMARY DESCRIPTION: The National Marine Fisheries Service (NMFS) announces the availability of Federal assistance to support the conservation of threatened and endangered species, recently de-listed species, and candidate species under the jurisdiction of the NMFS or under the joint jurisdiction of the NMFS and the U.S. Fish and Wildlife Service (e.g. sea turtles). Any state that has entered into an agreement with the NMFS and maintains an adequate and active program for the conservation of endangered and threatened species pursuant to section 6(c) of the Endangered Species Act of 1973 (ESA) is eligible to apply. These financial assistance awards can be used to support management, monitoring, research, and outreach activities that provide direct conservation benefits to listed species, recently de-listed species, or candidate species that reside within that state. Projects involving North Atlantic right whales will not be considered for funding under this grant program; such projects may be submitted under the North Atlantic Right Whale Research Program of the NMFS Northeast Regional Office. The program priorities for this opportunity support NOAA's mission support goal of: Ecosystems - Protect, Restore, and Manage Use of Coastal and Ocean Resources through Ecosystem-Based Management.

FUNDING AVAILABILITY: A minimum of $300K to a maximum of $800K in funding may be available for grants in FY 2007. Award periods may extend up to 3 years with annual funding contingent on the availability of Federal appropriations and satisfactory performance by the grant recipient. There are no restrictions on maximum or minimum award amounts within the available funding.

STATUTORY AUTHORITY: Under section 6 of the ESA, the NMFS is authorized to provide Federal assistance to eligible states for the purpose of assisting the states in the development of programs for the conservation of listed, recently de-listed, and candidate species that reside within that state (16 U.S.C. 1535).

CATALOG OF FEDERAL DOMESTIC ASSISTANCE (CFDA) NUMBER: 11.472, Unallied Science Programs.

APPLICATION DEADLINE: Proposals must be received by 5 p.m. eastern daylight time on September 8, 2006.

ADDRESS FOR SUBMITTING PROPOSALS: Applications should be submitted electronically via http://www.grants.gov. If online submission is not possible, hard copy applications may be submitted (by postal mail, commercial delivery, or hand delivery) to NOAA/NMFS/Office of Protected Resources, Attn: Lisa Manning, 1315 East-West Highway, SSMC3, Silver Spring, MD 20910.

INFORMATION CONTACTS: Lisa Manning, 1315 East-West Highway, Silver Spring, MD 20910; email: lisa.manning@noaa.gov; phone: 301-713-1401.

ELIGIBILITY: Eligible applicants are states that, through their respective state agencies, have entered into an agreement with the NMFS pursuant to section 6(c) of the ESA. The terms “state” and “state agency” are used as defined in section 3 of the ESA. Currently eligible state agencies are from the following states: Florida, Georgia, Maine, Maryland, Massachusetts, New Jersey, New York, North Carolina, Puerto Rico, South Carolina, and the U.S. Virgin Islands. Any state agency that enters into a section 6(c) agreement with the NMFS prior to the application deadline (September 8, 2006) is also eligible to apply.

COST SHARING REQUIREMENTS: In accordance with section 6(d) of the ESA, all proposals submitted must include a minimum non-Federal cost share of 25 percent of the total projects costs if the proposal involves a single state. If a proposal involves collaboration of two or more states, the minimum non-Federal cost share decreases to 10 percent of the total project costs.

INTERGOVERNMENTAL REVIEW: Applications under this program are subject to Executive Order 12372, “Intergovernmental Review of Federal Programs.”

12. Community-based Marine Debris Prevention and Removal Project Grants

SUMMARY DESCRIPTION: NMFS is inviting the public to submit proposals for funding available through the NOAA Marine Debris Program (MDP) to implement grass-roots projects to prevent or remove marine debris that will benefit living marine resource habitats. Projects funded through the NOAA Community-based Marine Debris Prevention and Removal Project Grants competition will be expected to have strong on-the-ground marine debris prevention or removal components that provide educational and social benefits for people and their communities in addition to long-term ecological habitat improvements for NOAA trust resources. Proposals selected for funding through this solicitation will be implemented through a cooperative agreement.

Marine debris removal may include, but is not limited to:

• Detection and removal of derelict fishing gear, such as abandoned crab pots and fish nets, monofilament line, or “casitas” (lobster aggregating devices);

• Removal of persistent debris from coastal habitats including marshes, bays, mangroves, and coral reefs. This includes activities such as removal of abandoned vessels, their associated debris, and/or large material washed up on shorelines;

• Removal of debris from marine, estuarine or beach environments resulting from hurricanes or other natural disasters; and

• Detection and removal of derelict pilings and bulkheads that diminish habitat quality.

Marine debris prevention may include, but is not limited to:

• Prevention activities related to reception facilities at marinas and fishing ports including recycling initiatives for monofilament fishing line and other types of fishing gear, or debris;

• The development of debris reduction incentives for prevention, removal, and safe disposal of plastics and derelict fishing gear; and

• Outreach/education focused projects.

The program priorities for this opportunity support NOAA's mission support goal of: Ecosystems - Protect, Restore, and Manage Use of Coastal and Ocean Resources through Ecosystem-Based Management.

FUNDING AVAILABILITY: Funding of up to $2,000,000 is expected to be available for Community-based Marine Debris Prevention and Removal Grants Projects in FY 2007. The NOAA Restoration Center anticipates that typical project awards will range from $15,000 to $150,000.

STATUTORY AUTHORITY: The Secretary of Commerce is authorized under the Fish and Wildlife Coordination Act, 16 U.S.C. 661, as amended by the Reorganization Plan No. 4 of 1970, to provide grants or cooperative agreements for habitat restoration.

CATALOG OF FEDERAL DOMESTIC ASSISTANCE (CFDA) 11.463 Habitat Conservation

APPLICATION DEADLINE: Applications for project funding under the MDP must be submitted via grants.gov by October 30, 2006 11:59 PM EST or if mailed, postmarked by October 30, 2006.

ADDRESS FOR SUBMITTING PROPOSALS: Applicants should apply through http://www.grants.gov. If unable to reasonably apply through grants.gov, send paper applications to Christopher D. Doley, Chief, NOAA Restoration Center (F/HC3), National Marine Fisheries Service, 1315 East West Highway, Silver Spring, MD 20910; ATTN: MDP Project Applications.

INFORMATION CONTACT(S): For further information contact David Landsman at David.Landsman@noaa.gov or 301-713-0174.

ELIGIBILITY: Eligible applicants are institutions of higher education, hospitals, other non-profits, commercial (for profit) organizations, organizations under the jurisdiction of foreign governments, international organizations, state, local and Indian tribal governments whose projects have the potential to benefit NOAA trust resources. Applications from federal agencies or employees of federal agencies will not be considered.

COST SHARING REQUIREMENTS: 1:1 non-Federal match is encouraged, will be considered in the review process, but applicants with less than 1:1 match will not be disqualified.

INTERGOVERNMENTAL REVIEW: Applications submitted by state and local governments are subject to Executive Order 12372, “Intergovernmental Review of Federal Programs.”

13. NOAA Coral Reef Conservation Grant Program - General Coral Reef Conservation Grants

SUMMARY DESCRIPTION: The NOAA Coral Reef Conservation Program/General Coral Reef Conservation Grants (GCRCGP) provides funding to institutions of higher education, non-profit organizations, commercial organizations, Freely Associated State government agencies, and local and Indian tribal governments to support coral reef conservation projects in the United States and the Freely Associated States in the Pacific, as authorized under the Coral Reef Conservation Act of 2000. Projects funded through the GCRCGP support on-the-ground efforts that: (1) help preserve, sustain and restore the condition of coral reef ecosystems, (2) promote the wise management and sustainable use of coral reef resources, (3) increase public knowledge and awareness of coral reef ecosystems and issues regarding their conservation and (4) develop sound scientific information on the condition of coral reef ecosystems and the threats to such ecosystems. Projects must address one of the following 7 categories: coral reef monitoring and assessment; socio-economic assessments and resource valuation; marine protected areas and associated management activities; coral reef fisheries management and enforcement; coral reef restoration; public education and outreach; and local action strategy implementation. Projects should complement and fill gaps in state, territorial and commonwealth coral reef programs, emphasize community-based conservation, or address local action strategy priorities. Research activities are eligible only if they directly relate to management or are listed as a project within a local action strategy. The program priorities for this opportunity support NOAA's mission support goal of: Ecosystem - Protect, Restore, and Manage Use of Coastal and Ocean Resources through Ecosystem-Based Management.

FUNDING AVAILABILITY: Funding up to $600,000 is expected to be available for NOAA Coral Reef Conservation Grant Program -General Coral Reef Conservation Grants. Individual awards in the form of grants can range from $15,000 to a maximum of $50,000. Applications over $50,000 will not be accepted. Funding will be subject to the availability of federal appropriations.

STATUTORY AUTHORITY: Authority for the NOAA Coral Reef Conservation Grant Program is provided by Section 6403.

CATALOG OF FEDERAL DOMESTIC ASSISTANCE (CFDA) NUMBER: 11.463 Habitat Conservation.

APPLICATION DEADLINE: Applications must be received no later than 11:59 PM EST on November 10, 2006. If grants.gov cannot be reasonably used, applications must be postmarked, or provided to a delivery service and documented with a receipt by Nov. 10, 2006.

ADDRESS FOR SUBMITTING PROPOSALS: Applications should be submitted via http://www.grants.gov. If grants.gov cannot be reasonably used, applications can be sent to: Andrew Bruckner, NOAA Coral Reef Conservation Program, NOAA Fisheries, Office of Habitat Conservation (F/HC), 1315 East West Highway, Silver Spring, MD 20910. ATTN: CRCGP Project Applications.

INFORMATION CONTACT: Andy Bruckner, Office of Habitat Conservation, F/HC1, Room 15836, NOAA Fisheries, 1315 East West Highway, Silver Spring, MD 20910, phone 301-713-3459 extension 190, e-mail at andy.bruckner@noaa.gov.

ELIGIBILITY: Eligible applicants include institutions of higher education, non-profit organizations, commercial organizations, Freely Associated State government agencies, and local and Indian tribal governments. U.S. Federal, State, Territory, and Commonwealth government agencies are not eligible under this program.

COST SHARING REQUIREMENTS: 1:1 non-federal match is required. The NOAA Administrator may waive all or part of the matching requirement if the Administrator determines that the project meets the following two requirements: (1) No reasonable means are available through which an applicant can meet the matching requirement, and (2) The probable benefit of such project outweighs the public interest in such matching requirement. In the case of a waiver request, the applicant must provide a detailed justification explaining the need for the waiver.

INTERGOVERNMENTAL REVIEW: Applications under this program are subject to Executive Order 12372, “Intergovernmental Review of Federal Programs.”

14. John H. Prescott Marine Mammal Rescue Assistance Grant Program

SUMMARY DESCRIPTION: NMFS is inviting eligible marine mammal stranding network participants to submit proposals to fund the recovery or treatment (i.e., rescue and rehabilitation) of live stranded marine mammals, data collection from living or dead stranded marine mammals for scientific research regarding marine mammal health, and facility operations directly related to the recovery or treatment of stranded marine mammals and collection of data from living or dead stranded marine mammals. The Prescott Grant Program is administered through the NMFS Marine Mammal Health and Stranding Response Program (MMHSRP). It is anticipated that awards funded through the Prescott Grant Program will facilitate achievement of MMHSRP goals and objectives by providing financial assistance to eligible stranding network participants. Proposals selected for funding through this solicitation will be implemented through either a grant or cooperative agreement. The program priorities for this opportunity support NOAA's mission support goal of: Ecosystems - Protect, Restore, and Manage Use of Coastal and Ocean Resources through Ecosystem-Based Management.

FUNDING AVAILABILITY: Funding of up to $4,000,000 is expected to be available in FY 2007. The maximum Federal award for each grant cannot exceed $100,000, as stated in the statutory language (16 U.S.C.1421f-1). Applicants are hereby given notice that these funds have not yet been appropriated for this program and therefore exact dollar amounts cannot be given.

STATUTORY AUTHORITY: The Marine Mammal Rescue Assistance Act of 2000 amended the Marine Mammal Protection Act (MMPA) to establish the John H. Prescott Marine Mammal Rescue Assistance Grant Program (16 U.S.C.1421f-1).

CATALOG OF FEDERAL DOMESTIC ASSISTANCE (CFDA) Number: 11.439 Marine Mammal Data Program.

APPLICATION DEADLINE: Applications for funding under the Prescott program must be received by Grants.gov or if mailed postmarked by 11:59 PM, eastern time, on Wednesday, September 27, 2006.

ADDRESS FOR SUBMITTING PROPOSALS: Applications should either be submitted online at http://www.grants.gov or sent to: NOAA/NMFS/Office of Protected Resources, Marine Mammal Health and Stranding Response Program, Attn: Michelle Ordono, 1315 East-West Highway, Room 3501, Silver Spring, MD 20910-3283, phone 301-713-2322 ext 177.

INFORMATION CONTACTS: Technical questions: Sarah Wilkin or Janet Whaley, by phone at 301-713-2322 ext. 104, or fax to 301-427-2525 or via email: sarah.wilkin@noaa.gov or janet.whaley@noaa.gov. Administrative questions: Michelle Ordono, by phone at 301-713-2322 ext. 177, fax: 301-427-2525, or e-mail: michelle.ordono@noaa.gov.

ELIGIBILITY: There are 5 categories of eligible stranding network participants that may apply for funds under this Program: (1) Letter of Agreement (LOA) holders; (2) LOA designee organizations; (3) researchers; (4) official Northwest Region participants; and, (5) state, local, eligible federal government or tribal employees. For these organizations and individuals to apply for award funds under the Prescott Grant Program, they must meet eligibility criteria specific to their category of participation.

COST SHARING REQUIREMENTS: All proposals submitted must provide a minimum non-Federal cost share of 25 percent of the total budget (i.e., at least .25 x total project costs).

INTERGOVERNMENTAL REVIEW: Applications under this program are subject to Executive Order 12372, “Intergovernmental Review of Federal Programs.”

15. Chesapeake Bay Watershed Education &Training (B-WET) Program

SUMMARY DESCRIPTION: The Chesapeake B-WET grant program is a competitively based program that supports existing environmental education programs, fosters the growth of new programs, and encourages the development of partnerships among environmental education programs throughout the entire Chesapeake Bay watershed. Funded projects assist in meeting the Stewardship and Community Engagement goals of the Chesapeake 2000 Agreement. Projects support organizations that provide students “meaningful” Chesapeake Bay or stream outdoor experiences and teachers professional development opportunities in the area of environmental education related to the Chesapeake Bay watershed. The program priorities for this opportunity support NOAA's mission support goal of: Ecosystems - Protect, Restore, and Manage Use of Coastal and Ocean Resources through Ecosystem-Based Management.

FUNDING AVAILABILITY: This solicitation announces that approximately $3.0M may be available in FY 2007 in award amounts to be determined by the proposals and available funds. Annual funding is anticipated to maintain partnerships for up to 3 years duration, but is dependant on funding made available by Congress. Applicants are hereby given notice that funds have not yet been appropriated for this program.

1. About $1.75M will be for exemplar programs that successfully integrate teacher professional development on the Chesapeake Bay watershed with in-depth classroom study and outdoor experiences for their students.

2. About $1.0M will be for proposals that provide opportunities either for students (K through 12) to participate in “Meaningful” Watershed Educational Experiences related to Chesapeake Bay or Professional Development in the area of Chesapeake Bay watershed education for teachers.

3. About $250K will be for proposals that incorporate the newly designed Chesapeake Bay Interpretive Buoy System (providing real-time water quality data and web-based content) into meaningful watershed educational experiences.

The NOAA Chesapeake Bay Office anticipates that typical awards for B-WET Exemplar Programs that successfully integrate teacher professional development with in-depth classroom student and outdoor experiences for their students will range from $50,000 to $200,000. Projects that represent either meaningful watershed educational experiences for students or teacher professional development in watershed education will range from $10,000 to $75,000. Projects focusing on the Chesapeake Bay Interpretive Buoy system will range from $10,000 to $100,000.

STATUTORY AUTHORITY:16 U.S.C. 742f; 16 U.S.C. 753a.

CATALOG OF FEDERAL DOMESTIC ASSISTANCE (CFDA) NUMBER: 11.457; Chesapeake Bay Studies, Education.

APPLICATION DEADLINE: Proposals must be received by 5 p.m. eastern time on October 23, 2006.

ADDRESS FOR SUBMITTING PROPOSALS: Electronic submission: http://www.grants.gov/. Paper applications may be submitted by postal mail, commercial delivery service, or hand-delivery. Paper applications must be sent to: NOAA Chesapeake Bay Office; Education Coordinator; 410 Severn Avenue, Suite 107A; Annapolis, Maryland 21403.

INFORMATION CONTACTS: Shannon W. Sprague, NOAA Chesapeake Bay Office, 410 Severn Avenue, Suite 107A, Annapolis, MD 2140 Shannon.Sprague@noaa.gov or 410-267-5664.

ELIGIBILITY: Eligible applicants are K-through-12 public and independent schools and school systems, institutions of higher education, community-based and nonprofit organizations, state or local government agencies, interstate agencies, and Indian tribal governments in the Chesapeake Bay watershed.

COST SHARING REQUIREMENTS: No cost sharing is required under this program, however, the NCBO strongly encourages applicants to share as much of the costs of the award as possible. Funds from other Federal awards may not be considered matching funds. The nature of the contribution (cash versus in-kind) and the amount of matching funds will be taken into consideration in the review process with cash being the preferred method of contribution. Further details can be found in the full funding opportunity announcement.

INTERGOVERNMENTAL REVIEW: Applications under this program are subject to Executive Order 12372, “Intergovernmental Review of Federal Programs.”

National Ocean Service

1. FY2007 Climate and Weather Impacts on Society and the Environment (CWISE)

SUMMARY DESCRIPTION: NOAA invites applications to establish a cooperative agreement with the agency under the Climate and Weather Impacts on Society and the Environment (CWISE) program. The agreement will be established between the National Climatic Data Center, the Coastal Services Center, the Climate Program Office and the award recipient to further understanding and increase the resiliency of natural, economic and social systems to weather and climate-related environmental stressors through interdisciplinary research, information and services delivery, education and outreach. The program priorities for this opportunity support NOAA's mission support goal of: Climate - Understand Climate Variability and Change to Enhance Society's Ability to Plan and Respond

FUNDING AVAILABILITY: The total amount available for a proposal is anticipated to be approximately $600,000 per year for the term of the cooperative agreement which is expected to be four years in length. Project funding is contingent upon availability of appropriations and is at the sole discretion of NOAA. No more than one award is anticipated from this announcement.

STATUTORY AUTHORITY: Statutory authority for this program is provided under 49 U.S.C. 44720; 33 U.S.C. 883d; 15 U.S.C. 2907; 16 U.S.C. 1451 et seq.; the Global Change Research Act, 15 U.S.C. 2921-2961; and the National Climate Program Act, 15 U.S.C. 2901-2908

CATALOG OF FEDERAL DOMESTIC ASSISTANCE (CFDA) NUMBER: 11.473, Coastal Services Center.

APPLICATION DEADLINE: Proposals must be received no later than 4 p.m. eastern daylight time on August 28, 2006.

ADDRESS FOR SUBMITTING PROPOSALS: Proposals must be submitted electronically via http://www.grants.gov, or in hard copy (by postal mail, commercial delivery service, or hand delivery) to the Coastal Services Center office. Hard copy proposals must be submitted to: Attn: Shauna Harris, DOC/NOAA/NOS/Coastal Services Center, 2234 South Hobson Avenue, Charleston, SC 29405; (843) 740-1149; email: Shauna.Harris@noaa.gov.

INFORMATION CONTACT: Administrative questions should be directed to Shauna Harris by telephone (843) 740-1149, by fax (843) 740-1315, or by e-mail Shauna.Harris@noaa.gov. Technical questions on the CWISE announcement should be directed to Stephanie Fauver, by telephone (843) 740-1287, by fax (843) 740-1329, or by e-mail Stephanie.Fauver@noaa.gov.

ELIGIBILITY: Eligible Applicants are U.S. institutions of higher education, other non-profits, commercial organizations, and state, local and Indian tribal governments.

COST SHARING REQUIREMENTS: Applicant will be required to contribute at least 5 percent (from non-Federal funds) of the total amount contributed by NOAA each year if the application is approved.

INTERGOVERNMENTAL REVIEW: Applications under this program are subject to Executive Order 12372, “Intergovernmental Review of Federal Programs.”

2. FY2007 Information Resource Supporting the Resiliency of Coastal Areas in the US Portion of the Gulf of Mexico

SUMMARY DESCRIPTION: The Coastal Services Center (the Center) seeks proposals for a two-year cooperative agreement under which the cooperator and the Center will jointly develop a regional framework for a Community Resilience Index (CRI) to increase the capacity of coastal communities to survive, mitigate the effects of, and recover from the effects of natural and other hazards. The purpose of the CRI is to define quantifiable indicators of community resilience; develop methodologies, tools, and information resources for the assessment of community resilience; and enhance the resilience of coastal communities. The design of the CRI will facilitate community self-assessment and adaptation.

Proposals should focus on developing pilot applications focusing on the U.S. portion of the northern Gulf of Mexico, addressing all or part of two main activities:

Activity 1. Developing an information resource that integrates spatial and non-spatial data to identify scientifically defensible indicators for community resilience (ecological, economic, socio-cultural and physical). This activity will also include identifying indicators and sources of information for measuring indicators, establishing baseline measurements and developing performance metrics for local, state, and/or regional agencies within the focus region. This activity will also evaluate and recommend potential options for integrating this information into locally-relevant geospatial decision support tools.

Activity 2. Developing a strategy for implementing the use of the CRI to enhance the resilience of coastal communities. Through a series of workshops engaging appropriate agencies, researchers, practitioners and end users, collaboratively develop recommendations concerning the implementation of the use of the CRI. The plan should address communications strategies for developing and sustaining a networked community of practitioners engaged in measuring and enhancing community resilience. The plan should also identify the training needs and recommended approaches for meeting the needs of practitioners related to community resilience concepts, performance measurement, and implementation practices.

The program priorities for this opportunity support NOAA's mission support goal of: Weather and Water - Serve Society's Needs for Weather and Water Information.

FUNDING AVAILABILITY: Total anticipated funding available for all awards is $700,000 and is subject to the availability of FY 2007 appropriations. Two to five awards are anticipated from this announcement. Awards will range from $50,000 to $350,000.

STATUTORY AUTHORITY: Statutory authority for this program is provided under the Coastal Zone Management Act, 16 U.S.C. 1456c (Technical Assistance).

CATALOG OF FEDERAL DOMESTIC ASSISTANCE (CFDA) NUMBER: 11.473, Coastal Services Center.

APPLICATION DEADLINE: Letters of Intent must be received by the Coastal Services Center by 5 p.m. EDT on June 30, 2006. Full applications must be submitted through Grants.gov no later than 5 p.m. EDT, August 15, 2006.

ADDRESS FOR SUBMITTING PROPOSALS: Proposals must be submitted electronically via http://www.grants.gov, or hard copy (by postal mail, commercial delivery service, or hand delivery) to the NOAA Coastal Services Center. Hard copy proposals must be submitted to: Attn: Jeffery Adkins, NOAA Coastal Services Center, 2234 South Hobson Avenue, Charleston, South Carolina, 29405-2413

INFORMATION CONTACTS: For administrative issues, contact James Lewis Free at 843-740-1185 (phone) or 843-740-1315 (fax) or email him at James.L.Free@noaa.gov. For technical questions, contact Jeffery Adkins by telephone at 843-740-1244 or by email at Jeffery.Adkins@noaa.gov.

ELIGIBILITY: Eligible applicants are institutions of higher education, hospitals, other non-profits, commercial organizations, foreign governments, organizations under the jurisdiction of foreign governments, international organizations, and state, local and Indian tribal governments. Federal agencies or institutions are not eligible to receive Federal assistance under this announcement, but may be project partners. Note: Federal agencies or institutions who are project partners must demonstrate that they have legal authority to receive funds from outside sources in excess of their appropriations.

COST SHARING REQUIREMENTS: None.

INTERGOVERNMENTAL REVIEW: Applications under this program are subject to Executive Order 121372, “Intergovernmental Review of Federal Programs.”

3. Coastal Hypoxia Research Program (CHRP)

SUMMARY DESCRIPTION: NOAA, National Ocean Service (NOS), National Centers for Coastal Ocean Science(NCCOS), Center for Sponsored Coastal Oceans Research (CSCOR) is soliciting proposals for projects of 2 to 5 years in duration that advance understanding, predicting, and managing the causes and ecological and economic impacts of hypoxia in representative coastal ecosystems. The program priorities for this opportunity support NOAA's mission support goal of: Ecosystems - Protect, Restore, and Manage use of Coastal and Ocean Resources through Ecosystem-Based Management.

FUNDING AVAILABILITY: This solicitation announces that award amounts will be determined by the proposals and available funds will typically not exceed $500,000 per project per year with project durations from 2 to 5 years. It is anticipated that 3 to 6 total projects will be funded. Support in out years after FY 2007 is contingent upon the availability of funds.

STATUTORY AUTHORITY: 33 U.S.C. 1442 and Pub. L. 108-456.

CATALOG OF FEDERAL DOMESTIC ASSISTANCE (CFDA) NUMBER: 11.478 Center for Sponsored Coastal Ocean Research, Coastal Ocean Program.

APPLICATION DEADLINE: The deadline for receipt of proposals at the NCCOS/CSCOR office is 3 p.m., EST, September 11, 2006.

ADDRESS FOR SUBMITTING PROPOSALS: Applications submitted in response to this announcement are strongly encouraged to be submitted via http://www.grants.gov. The full funding announcement for this program is also available at this site. Non-electronic submissions should be sent to Laurie Golden, NOAA National Ocean Service, NCCOS/CSCOR Grants Administrator, SSMC IV, 1305 East West Highway, Silver Spring, MD 20910.

INFORMATION CONTACTS: Technical Information. Alan Lewitus, CHRP 2007 Program Manager, NCCOS/CSCOR, 301-713-3338/ext 178, Email: Alan.Lewitus@noaa.gov. Business Management Information. Laurie Golden, NCCOS/CSCOR Grants Administrator, 301-713-3338/ext 151, Email: Laurie.Golden@noaa.gov.

ELIGIBILITY: Eligible applicants are institutions of higher education, other non-profits, state, local, Indian Tribal Governments, commercial organizations and agencies that possess the statutory authority to receive financial assistance. NCCOS/CSCOR will not fund any Federal FTE salaries, but will fund travel, equipment, supplies, and contractual personnel costs associated with the proposed work.

(1) Researchers must be employees of an eligible entity listed above; and proposals must be submitted through that entity. Non-Federal researchers should comply with their institutional requirements for proposal submission.

(2) Non-NOAA Federal applicants will be required to submit certifications or documentation showing that they have specific legal authority to receive funds from the Department of Commerce (DOC) for this research.

(3) NCCOS/CSCOR will accept proposals that include foreign Researchers as collaborators with a researcher who has met the above stated eligibility requirements.

(4) Non-Federal researchers affiliated with NOAA-University Joint Institutes should comply with joint institutional requirements; they will be funded through grants either to their institutions or to joint institutes.

COST SHARING REQUIREMENTS: None

INTERGOVERNMENTAL REVIEW: Applications under this program are not subject to Executive Order 12372, “Intergovernmental Review of Federal Programs.”

4. Coral Reef Ecosystem Studies (CRES)

SUMMARY DESCRIPTION: NOAA, National Ocean Service (NOS), National Centers for Coastal Ocean Science(NCCOS), Center for Sponsored Coastal Oceans Research (CSCOR) is soliciting proposals for projects of 3-5 years in duration for the Coral Reef Ecosystem Studies Program (CRES), and 1-3 years in duration for the Deep Coral Reef Ecosystem Studies Program (Deep-CRES). The program priorities for this opportunity support NOAA's mission support goal of: Ecosystems - Protect, Restore, and Manage Use of Coastal and Ocean Resources through Ecosystem-Based Management.

FUNDING AVAILABILITY: Funding is contingent upon availability of Federal appropriations. NOAA is committed to continual improvement of the grants process and accelerating the award of financial assistance to qualified recipients in accordance with the recommendations of the Business Process Reengineering Team. In order to fulfill these responsibilities, this solicitation announces that award amounts to be determined by the proposals and available funds are typically not to exceed $1,000,000 per year with project duration from 3-5 years for the West Florida Shelf study; and $500,000 per year with a project duration of up to 3 years for the deep hermatypic coral reef study. It is anticipated that one project will be funded for the West Florida Shelf study, and one project will be funded for the deep hermatypic coral reef study. Support in out years after FY 2007 is contingent upon the availability of funds.

STATUTORY AUTHORITY: 16 U.S.C. 6403.

CATALOG OF FEDERAL DOMESTIC ASSISTANCE (CFDA) NUMBER:

11.478 Center for Sponsored Coastal Ocean Research, Coastal Ocean Program.

APPLICATION DEADLINE: The deadline for receipt of proposals at the NCCOS/CSCOR office is 3 p.m., EST, November 13, 2006.

ADDRESS FOR SUBMITTING PROPOSALS: Applications submitted in response to this announcement are strongly encouraged to be submitted via http://www.grants.gov. The full funding announcement for this program is also available at this site. Non-electronic submissions should be sent to Laurie Golden, NOAA National Ocean Service, NCCOS/CSCOR Grants Administrator, SSMC IV, 1305 East West Highway, Silver Spring, MD 20910.

INFORMATION CONTACTS: Technical Information. Michael Dowgiallo, NCCOS/CSCOR Program Manager, 301-713-3338/ext 161, Email: Michael.Dowgiallo@noaa.gov. Business Management Information. Laurie Golden, NCCOS/CSCOR Grants Administrator, 301-713-3338/ext 151, Email: Laurie.Golden@noaa.gov.

ELIGIBILITY: Eligible applicants are institutions of higher education, other non-profits, state, local, Indian Tribal Governments, commercial organizations and Federal agencies that possess the statutory authority to receive financial assistance. NCCOS/CSCOR will not fund any Federal FTE salaries, but will fund travel, equipment, supplies, and contractual personnel costs associated with the proposed work.

(1) Researchers must be employees of an eligible entity listed above; and proposals must be submitted through that entity. Non-Federal researchers should comply with their institutional requirements for proposal submission.

(2) Non-NOAA Federal applicants will be required to submit certifications or documentation showing that they have specific legal authority to receive funds from the Department of Commerce (DOC) for this research.

(3) NCCOS/CSCOR will accept proposals that include foreign researchers as collaborators with a researcher who has met the above stated eligibility requirements.

(4) Non-Federal researchers affiliated with NOAA-University Joint Institutes should comply with joint institutional requirements; they will be funded through grants either to their institutions or to joint institutes.

COST SHARING REQUIREMENTS: None.

INTERGOVERNMENTAL REVIEW: Applications under this program are not subject to Executive Order 12372, “Intergovernmental Review of Federal Programs”.

5. Cumulative Impacts of Multiple Stressors (MultiStress)

SUMMARY DESCRIPTION: NOAA/NOS/NCCOS/CSCOR is soliciting proposals for projects of up to 5 years in duration to investigate the impacts of multiple stressors in coastal ocean ecosystems, including estuaries and the Great Lakes. These projects should be interdisciplinary, multiple investigator, and well-integrated studies designed to develop capabilities for understanding, predicting, and managing the effects of multiple stressors (both anthropogenic and natural) in coastal ecosystems. The program priorities for this opportunity support NOAA's mission support goal of: Ecosystems - Protect, Restore, and Manage Use of Coastal and Ocean Resources through Ecosystem-Based Management.

FUNDING AVAILABILITY: This solicitation announces that award amounts will be determined by the proposals and available funds typically not to exceed $1.0 million per project per year, exclusive of ship costs, with project durations from 3 to 5 years. It is anticipated that 1 to 2 total projects will be funded. Support in out years after FY 2007 is contingent upon the availability of funds.

STATUTORY AUTHORITY: 16 U.S.C. 1456c

CATALOG OF FEDERAL DOMESTIC ASSISTANCE (CFDA) NUMBER:

11.478 Center for Sponsored Coastal Ocean Research, Coastal Ocean Program.

APPLICATION DEADLINE: The deadline for receipt of proposals at the Chesapeake Bay Watershed NCCOS/CSCOR office is 3 p.m., EST October 23, 2006.

ADDRESS FOR SUBMITTING PROPOSALS: Applications submitted in response to this announcement are strongly encouraged to be submitted via http://www.grants.gov. The full funding announcement for this program is also available at this site. Non-electronic submissions should be sent to Laurie Golden, NOAA National Ocean Service, NCCOS/CSCOR Grants Administrator, SSMC IV, 1305 East West Highway, Silver Spring, MD 20910.

INFORMATION CONTACTS: Technical Information. Susan Banahan, MultiStress 2007 Program Manager, NCCOS/CSCOR, 301-713-3338/ext 148, Email: Susan.Banahan@noaa.gov. Business Management Information. Laurie Golden, NCCOS/CSCOR Grants Administrator, 301-713-3338/ext 151, Email: Laurie.Golden@noaa.gov.

ELIGIBILITY: Eligible applicants are institutions of higher education, other non-profits, state, local, Indian Tribal Governments, commercial organizations and Federal agencies that possess the statutory authority to receive financial assistance. NCCOS/CSCOR will not fund any Federal FTE salaries, but will fund travel, equipment, supplies, and contractual personnel costs associated with the proposed work.

(1) Researchers must be employees of an eligible entity listed above; and proposals must be submitted through that entity. Non-Federal researchers should comply with their institutional requirements for proposal submission.

(2) Non-NOAA Federal applicants will be required to submit certifications or documentation showing that they have specific legal authority to receive funds from the Department of Commerce (DOC) for this research.

(3) NCCOS/CSCOR/COP will accept proposals that include foreign researchers as collaborators with a researcher who has met the above stated eligibility requirements.

(4) Non-Federal researchers affiliated with NOAA-University Joint Institutes should comply with joint institutional requirements; they will be funded through grants either to their institutions or to joint institutes.

COST SHARING REQUIREMENTS: None

INTERGOVERNMENTAL REVIEW: Applications under this program are not subject to Executive Order 12372, “Intergovernmental Review of Federal Programs.”

6. Monitoring and Event Response for Harmful Algal Blooms (MERHAB)

SUMMARY DESCRIPTION: National Centers for Coastal Ocean Science(NCCOS), Center for Sponsored Coastal Oceans Research (CSCOR) is soliciting proposals for two types of research projects MERHAB-targeted and MERHAB-regional. MERHAB-targeted proposals will incorporate tools, approaches and technologies from HAB research programs into existing harmful algal bloom (HAB) monitoring programs. MERHAB regional proposals will create partnerships to enhance and sustain routine HAB monitoring capabilities and provide managers with timely information needed to mitigate HAB impacts on coastal communities. The program priorities for this opportunity support NOAA's mission support goal of: Ecosystems - Protect, Restore, and Manage Use of Coastal and Ocean Resources through Ecosystem-Based Management.

FUNDING AVAILABILITY: This solicitation announces that award amounts to be determined by the proposals and available funds typically not to exceed $100,000 per project per year with project durations from 1-3 years for targeted research projects and $600,000 per project per year with projects duration from 3-5 years for regional research projects. It is anticipated that 5 to 15 total projects will be funded with no more than two being regional intensive projects.

STATUTORY AUTHORITY: 16 U.S.C. 1442 and Pub.L. 108-456.

CATALOG OF FEDERAL DOMESTIC ASSISTANCE (CFDA) NUMBER:

11.478 Center for Sponsored Coastal Ocean Research, Coastal Ocean Program.

APPLICATION DEADLINE: The deadline for receipt of proposals at the NCCOS/CSCOR office is 3 p.m., EST October 2, 2006.

ADDRESS FOR SUBMITTING PROPOSALS: Applications submitted in response to this announcement are strongly encouraged to be submitted via http://www.grants.gov. The full funding announcement for this program is also available at this site. Non-electronic submissions should be sent to Laurie Golden, NCCOS/CSCOR Grants Administrator, 301-713-3338/ext 151, Internet: Laurie.Golden@noaa.gov.

INFORMATION CONTACTS: Technical Information. Marc Suddleson, NCCOS/CSCOR Program Manager, 301-713-3338/ext 163, Email: marc.suddleson@noaa.gov. Business Management Information. Laurie Golden, NCCOS/CSCOR Grants Administrator, 301-713-3338/ext 151, Email: Laurie.Golden@noaa.gov.

ELIGIBILITY: Eligible applicants are institutions of higher education, other non-profits, state, local, Indian Tribal Governments, commercial organizations and Federal agencies that possess the statutory authority to receive financial assistance. NCCOS/CSCOR will not fund any Federal FTE salaries, but will fund travel, equipment, supplies, and contractual personnel costs associated with the proposed work.

(1) Researchers must be employees of an eligible entity listed above; and proposals must be submitted through that entity. Non-Federal researchers should comply with their institutional requirements for proposal submission.

(2) Non-NOAA Federal applicants will be required to submit certifications or documentation showing that they have specific legal authority to receive funds from the Department of Commerce (DOC) for this research.

(3) NCCOS/CSCOR will accept proposals that include foreign researchers as collaborators with a researcher who has met the above stated eligibility requirements.

(4) Non-Federal researchers affiliated with NOAA-University Joint Institutes should comply with joint institutional requirements; they will be funded through grants either to their institutions or to joint institutes.

COST SHARING REQUIREMENTS: None.

INTERGOVERNMENTAL REVIEW: Applications under this program are not subject to Executive Order 12372, “Intergovernmental Review of Federal Programs.”

7. NOAA Coral Reef Conservation Grant Program - State and Territory Coral Reef Ecosystem Monitoring Grant

SUMMARY DESCRIPTION: This program is soliciting proposals to support implementation of a nationally coordinated, comprehensive, long term monitoring program to assess the condition of U.S. coral reef ecosystems, and to evaluate the efficacy of coral ecosystem management. This program is part of the NOAA Coral Reef Conservation Grant Program under the Coral Reef Conservation Act of 2000 which provides matching grants of financial assistance for coral reef monitoring projects. NOS will accept initial applications for peer review. Selected applicants may be asked to revise award objectives, work plans or budgets prior to submittal of a final application, including required Federal financial assistance forms, to NOS. The program priorities for this opportunity support NOAA's mission support goals of Ecosystems - Protect, Restore, and Manage Use of Coastal and Ocean Resources through Ecosystem-Based Management.

FUNDING AVAILABILITY: Approximately $1,100,000 may be available in FY 2007 to support awards under this program. Each eligible jurisdiction can apply for a maximum $130,000, with the exception of the Republic of Palau, the Federated States of Micronesia, and the Republic of the Marshall Islands who can apply for a maximum of $30,000. The amount of funding awarded to each jurisdiction will be subject to the eligibility and evaluation requirements described in this announcement.

STATUTORY AUTHORITY: Statutory authority for this program is provided under 16 U.S.C. 6403.

CATALOG OF FEDERAL DOMESTIC ASSISTANCE (CFDA) NUMBER: 11.426, Coastal Zone Management Program.

APPLICATION DEADLINE: Initial applications are due to NOAA by 11:59 p.m. eastern time on Monday, November 13, 2006. Final applications are due to NOAA by 11:59 p.m. eastern time on Friday March 2, 2007.

ADDRESS FOR SUBMITTING PROPOSALS: David Kennedy, NOAA Coral Reef Conservation Program, Office of Response and Restoration, NOAA National Ocean Service, N/ORR, Room 10102, 1305 East West Highway, Silver Spring, MD 20910 or coral.grants@noaa.gov. Submissions by e-mail are preferred.

Address for submitting final applications: http://www.grants.gov, the Federal grants portal. If internet access is unavailable, hard copies can be submitted to David Kennedy, at the address above. Applicants are required to include one original and two copies of the signed, hard/paper of the Federal financial assistance forms for each final application package that is not submitted through http://www.grants.gov.

INFORMATION CONTACTS: John Christensen, 1305 East West Highway, 9th Floor, N/SCI1, Silver Spring, MD 20910, phone 301-713-3028 extension 153, e-mail at john.christensen@noaa.gov.

ELIGIBILITY: Eligible applicants are the governor-appointed point of contact agencies for coral reef coordination in each of the jurisdictions of American Samoa, Florida, the Commonwealth of the Northern Mariana Islands, Guam, Hawaii, the Republic of Palau, the Federated States of Micronesia (including Kosrae, Pohnpei, Yap, and Chuuk), the Republic of the Marshall Islands, Puerto Rico, and U.S. Virgin Islands.

COST SHARING REQUIREMENTS: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

INTERGOVERNMENTAL REVIEW: Applications under this program are not subject to Executive Order 12372, “Intergovernmental Review of Federal Programs”.

8. NOAA Coral Reef Conservation Grant Program - State and Territory Coral Reef Management Grants

SUMMARY DESCRIPTION: This program is soliciting proposals to support comprehensive projects for the conservation and management of coral reefs and associated fisheries in the jurisdictions of Puerto Rico, the U.S. Virgin Islands, Florida, Hawaii, Guam, the Commonwealth of the Northern Mariana Islands and American Samoa. Funding will also support jurisdictional participation in national coral reef planning activities, such as U.S. Coral Reef Task Force meetings. This program is part of the NOAA Coral Reef Conservation Grant Program under the Coral Reef Conservation Act of 2000 which provides matching grants of financial assistance for coral reef conservation projects. NOS will accept initial applications for peer review. Selected applicants may be asked to revise award objectives, work plans or budgets prior to submittal of a final application, including required Federal financial assistance forms, to NOS. The program priorities for this opportunity support NOAA's mission support goal of: Ecosystems - Protect, Restore, and Manage Use of Coastal and Ocean Resources through Ecosystem-Based Management.

FUNDING AVAILABILITY: Approximately $4,000,000 may be available in FY 2007 to support awards under this program. Each eligible jurisdiction can apply for a maximum $685,000. A minimum of 40% of the final award amount must be dedicated to the implementation and support of the Local Action Strategy initiative in each Funding is subject to the availability of federal appropriations. The amount of funding awarded to each jurisdiction will be subject to the eligibility and evaluation requirements described in this announcement.

STATUTORY AUTHORITY: Statutory authority for this program is provided under 16 U.S.C. 6403.

CATALOG OF FEDERAL DOMESTIC ASSISTANCE (CFDA) NUMBER: 11.419, Coastal Zone Management Program.

APPLICATION DEADLINE: Pre-applications must be received no later than 11:59 p.m. eastern standard time on Monday, November 13, 2006. Final applications must be received no later than 11:59 p.m. eastern standard time on Friday, March 2, 2007.

ADDRESS FOR SUBMITTING PROPOSALS: Pre-applications must be submitted electronically via e-mail to coral.grants@noaa.gov or as hard copy (by postal mail, commercial delivery service, or hand delivery) to David Kennedy, NOAA Coral Reef Conservation Program, Office of Response and Restoration, NOAA National Ocean Service, N/ORR, Room 10102, 1305 East West Highway, Silver Spring, MD 20910. Pre-application submissions by e-mail are preferred.

Final applications must be submitted electronically via http://www.grants.gov or, if internet access is not available, as hard copy (by postal mail, commercial delivery service, or hand delivery) to David Kennedy, NOAA Coral Reef Conservation Program, Office of Response and Restoration, NOAA National Ocean Service, N/ORR, Room 10102, 1305 East West Highway, Silver Spring, MD 20910. Submissions by grants.gov are preferred.

INFORMATION CONTACT: Dana Wusinich-Mendez, 1305 East West Highway, 11th Floor, N/ORM3, Silver Spring, MD 20910, phone 301-713-3155 extension 159, e-mail at dana.wusinich-mendez@noaa.gov.

ELIGIBILITY: Eligible applicants are the governor-appointed point of contact agencies for coral reef coordination in each of the jurisdictions of American Samoa, Florida, the Commonwealth of the Northern Mariana Islands, Guam, Hawaii, Puerto Rico, and U.S. Virgin Islands.

COST SHARING REQUIREMENTS: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

INTERGOVERNMENTAL REVIEW: Applications under this program are not subject to Executive Order 12372, “Intergovernmental Review of Federal Programs.”

9. NOAA Coral Reef Conservation Grant Program - International Coral Reef Conservation Grants

SUMMARY DESCRIPTION: This Program solicits proposals under four funding categories: 1) Promote Watershed Management in the Wider Caribbean, Brazil, and Bermuda; 2) Regional Enhancement of Marine Protected Area Management Effectiveness; 3) Encourage the Development of National Networks of Marine Protected Areas in the Wider Caribbean, Bermuda, Brazil, Southeast Asia, and the South Pacific; and 4) Promote Regional Socio-Economic Training and Monitoring in Coral Reef Management in the Wider Caribbean, Brazil, Bermuda, the Western Indian Ocean, the Red Sea, the South Pacific, and Southeast Asia. Each funding category has specific applicant and project eligibility criteria. The program priorities for this opportunity support NOAA's mission support goal of: Ecosystems - Protect, Restore, and Manage Use of Coastal and Ocean Resources through Ecosystem-Based Management.

FUNDING AVAILABILITY: Approximately $500,000 may be available in FY 2007 to support awards under this program. Each eligible applicant can apply for the following maximum amounts: Watershed Management $40,000; Management Effectiveness: Regional capacity building projects $80,000; MPA National Networks: $50,000; Socio-economic Monitoring Regional projects $35,000. The amount of funding awarded to each applicant will be subject to the eligibility and evaluation requirements described in this announcement.

STATUTORY AUTHORITY: Statutory authority for this program is provided under 16 U.S.C. 6403.

CATALOG OF FEDERAL DOMESTIC ASSISTANCE (CFDA) NUMBER: 11.463 - Habitat Conservation.

PRE-APPLICATION AND FINAL APPLICATION DEADLINES: Pre-applications are due to NOAA by 11:59 p.m. eastern time on Monday, November 13, 2006. Final applications by invitation only are due to NOAA by 11:59 p.m. eastern time on Friday, March 2, 2007.

ADDRESS FOR SUBMITTING PRE-APPLICATION: Preferred address for submitting pre-applications: coral.grants@noaa.gov. Paper pre-applications may be sent to: David Kennedy, NOAA Coral Reef Conservation Program, Office of Response and Restoration, NOAA National Ocean Service, N/ORR, Room 10102, 1305 East West Highway, Silver Spring, MD 20910, or to faxed to 301-713-4389.

ADDRESS FOR SUBMITTING FINAL APPLICATION BY INVITATION ONLY: 1) http://www.grants.gov, the Federal grants portal and the preferred method; 2) By electronic mail to scot.frew@noaa.gov including signed and scanned copies of all pages requiring original signatures and signed and scanned copies of original support letters; 3) If internet access is unavailable, one hard copy can be submitted David Kennedy, NOAA Coral Reef Conservation Program, Office of Response and Restoration, N/ORR, Room 10102, NOAA National Ocean Service, 1305 East West Highway, Silver Spring, MD 20910. Applicants are required to include one signed original copy of the signed, paper Federal financial assistance forms.

INFORMATION CONTACT: Scot Frew, NOAA/NOS International Program Office, 1315 East West Highway, 5th Floor, N/IP, Room 5735, Silver Spring, MD 20910. Phone: 301-713-3078, extension 220; e-mail: Scot.Frew@noaa.gov.

ELIGIBILITY: Eligible applicants include all international, governmental (except U.S. federal agencies), and non-governmental organizations. For specific country eligibility per category, please refer to individual category descriptions in Section V. The proposed work must be conducted at a non-U.S. site. Eligible countries are defined as follows: The Wider Caribbean includes the 37 States and territories that border the marine environment of the Gulf of Mexico, the Caribbean Sea, and the areas of the Atlantic Ocean adjacent thereto, and Brazil and Bermuda, but excluding areas under U.S. jurisdiction. The South Pacific Region includes South Pacific Regional Environment Program's 19 Pacific island countries and territories, including the Federated States of Micronesia, Republic of Palau, and the Republic of the Marshall Islands, but excluding U.S. territories and four developed country members. Southeast Asia Region includes Brunei, Cambodia, Indonesia, Laos, Malaysia, Philippines, Singapore, Thailand, and Vietnam. The Western Indian Ocean Region includes Comoros, France (La Reunion), Kenya, Madagascar, Mauritius, Mozambique, Seychelles, the United Republic of Tanzania, and South Africa. The Red Sea Region includes five member countries of the Regional Organization for the Conservation of the Environment of the Red Sea and Gulf of Aden (PERSGA): Djibouti, Egypt, Jordan, the Kingdom of Saudi Arabia, and Yemen.

COST SHARING REQUIREMENTS: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

INTERGOVERNMENTAL REVIEW: Applications under this program are not subject to Executive Order 12372, “Intergovernmental Review of Federal Programs”.

10. California Bay Watershed Education and Training (B-WET) Program- Meaningful Watershed Experiences for San Francisco, Monterey, and Santa Barbara

SUMMARY DESCRIPTION: The California B-WET grant program, is a competitively based program that supports existing environmental education programs, fosters the growth of new programs, and encourages the development of partnerships among environmental education programs throughout the San Francisco Bay, Monterey Bay, and Santa Barbara Channel watersheds. Funded projects provide Meaningful Watershed Experiences to students and teachers. The program priorities for this opportunity support NOAA's mission support goal of: Ecosystems - Protect, Restore, and Manage Use of Coastal and Ocean Resources through Ecosystem-Based Management

FUNDING AVAILABILITY: This solicitation announces that approximately $1,650,000 may be available in FY 2007 in award amounts to be determined by the proposals and available funds. About $700,000 will be made available to the San Francisco Bay watershed area, $600,000 will be made available to the Monterey Bay watershed area, and about $350,000 will be made available to the Santa Barbara Channel watershed area. Individual annual awards in the form of grants or cooperative agreements are expected to range from $10,000 per year to a maximum of $55,000 per year for no more than three years.

STATUTORY AUTHORITY: Statutory authority for this program is provided under 16 U.S.C. 1440.

CATALOG OF FEDERAL DOMESTIC ASSISTANCE (CFDA) NUMBER: 11.429, Marine Sanctuary Program.

APPLICATION DEADLINE: Proposals must be received by 5 p.m. Pacific standard time on October 2, 2006.

ADDRESS FOR SUBMITTING PROPOSALS: Proposals must be submitted either electronically via http://www.grants.gov, or as hard copy (by postal mail, commercial delivery service, or hand delivery) to the Monterey Bay National Marine Sanctuary Program. Hard copy proposals must be submitted to: ATTN: Seaberry Nachbar, 299 Foam Street, Monterey, CA 93940. Tel: 831-647-4204.

INFORMATION CONTACT: Seaberry Nachbar, Monterey Bay National Marine Sanctuary office; 299 Foam Street, Monterey, CA 93940, or by phone at 831-647-4201, or fax to 831-647-4250, or via Internet at seaberry.nachbar@noaa.gov.

ELIGIBILITY: Eligible applicants are K-through-12 public and independent schools and school systems, institutions of higher education, nonprofit organizations, state or local government agencies, and Indian tribal governments.

COST SHARING REQUIREMENTS: No cost sharing is required under this program; however, the National Marine Sanctuary Program strongly encourages applicants applying for either area of interest to share as much of the costs of the award as possible.

INTERGOVERNMENTAL REVIEW: Applications under this program are not subject to Executive Order 12372, “Intergovernmental Review of Federal Programs.”

11. Bay Watershed Education and Training-B-WET Hawaii

SUMMARY DESCRIPTION: The B-WET Hawaii Program is an annually awarded, competitively-based grant that supports existing environmental education programs, fosters the growth of new programs, and encourages the development of partnerships among environmental education programs throughout Hawaii. Funded projects provide meaningful outdoor experiences for K-12 students and professional development opportunities for teachers in the area of environmental education. Funds will be made available for only a 12 month award period. The program priorities for this opportunity support NOAA's mission support goal of: Ecosystems - Protect, Restore, and Manage Use of Coastal and Ocean Resources through Ecosystem-Based Management.

FUNDING AVAILABILITY: Total anticipated funding for all awards is approximately $1,000,000 in award amounts to be determined by the proposals and available funds. It is anticipated that approximately five to fifteen grants will be awarded and a typical project award will range from approximately $10,000 to $100,000. Funds are subject to the availability of 2007 appropriations.

STATUTORY AUTHORITY: Statutory authority for this program is provided under 15 U.S.C. 1540; 33 U.S.C. 883d.

CATALOG OF FEDERAL DOMESTIC ASSISTANCE (CFDA) Number: 11.473, Coastal Services Center.

APPLICATION DEADLINE: Proposals must be received no later than 5 p.m. eastern standard time (11 a.m. Hawaii standard time) on August 30, 2006.

ADDRESS FOR SUBMITTING PROPOSALS: Proposals must be submitted electronically via http://www.grants.gov, or as hard copy (by postal mail, commercial delivery service, or hand delivery) to the Pacific Services Center office. Hard copy proposals must be submitted to: Attn: Sam Thomas, NOAA Pacific Services Center; 737 Bishop Street, Mauka Tower, Suite 2250, Honolulu, HI 96813-3212. Tel: 808-532-3960.

INFORMATION CONTACT: Administrative and technical questions: Contact Sam Thomas by phone at 808-532-3960 or fax to 808-532-3224, or via e-mail: Sam.Thomas@noaa.gov.

ELIGIBILITY: Eligible applications are K-12 public and independent schools and school systems, institutions of higher education, commercial and nonprofit organizations, state or local government agencies, and Indian tribal governments. Applicants that are not eligible are individuals and Federal agencies. The Department of Commerce/ National Oceanic and Atmospheric Administration (DOC/NOAA) is strongly committed to broadening the participation of historically Black Colleges and Universities, Hispanic-serving institutions, Tribal colleges and universities, Alaskan Native and Native Hawaiian institutions, and institutions that service undeserved areas.

COST SHARING REQUIREMENTS: None.

INTERGOVERNMENTAL REVIEW: Applications under this program are not subject to Executive Order 12372, “Intergovernmental Review of Federal Programs.”

12. National Estuarine Research Reserves System FY 2007 Land Acquisition and Construction Competitive Program

SUMMARY DESCRIPTION: The Estuarine Reserves Division (ERD) of NOAA is soliciting proposals from the National Estuarine Research Reserve System (NERRS) for land acquisition and construction funding. The National Estuarine Research Reserve system consists of estuarine areas of the United States and its territories which are designated and managed for research and educational purposes. Each reserve within the system is chosen to represent different biogeographic regions and to include a variety of ecosystem types. Through the funding of designated reserve agencies and universities to undertake land acquisition and construction projects that support the NERRS purpose, NOAA will strengthen protection of key land and water areas; enhance long-term protection of the area for research and education, and provide for facility and exhibit construction. This notice sets forth funding priorities, selection criteria, and application procedures. The program priorities for this opportunity support NOAA's mission support goal of: Ecosystems - Protect, Restore, and Manage Use of Coastal and Ocean Resources through Ecosystem-Based Management.

FUNDING AVAILABILITY: The ERD of NOAA announces the availability of funding for the NERRS for land acquisition and/or construction. The ERD anticipates that approximately $7.178 million, pending availability of funds, will be competitively awarded to qualified National Estuarine Research Reserves that meet the funding priorities and selection criteria.

STATUTORY AUTHORITY: 16 U.S.C. 1461 (e)(1)(A)(i),(ii), and (iii).

CATALOG OF FEDERAL DOMESTIC ASSISTANCE (CFDA) NUMBER: 11.420, Coastal Zone Management Estuarine Research Reserves.

APPLICATION DEADLINE: Proposals must be received by later than 6 p.m. eastern time, December 1, 2006.

ADDRESS FOR SUBMITTING PROPOSALS: Applicants are strongly encourage to submit proposals electronically through the Grants.gov Web site http://www.grants.gov. Paper applications should be submitted to NOAA/NOS; 1305 East West Highway, Room 10509; Silver Spring, MD 20910.

INFORMATION CONTACT(s): Doris Grimm, NOAA/NOS; 1305 East-West Highway, Room 10509; Silver Spring, Maryland 20910, or by phone at 301-713-3155 ext. 107, or fax to 301-713-4012, internet at doris.grimm@noaa.gov.

ELIGIBILITY: Eligible applicants are coastal states in which the NERRs are located and are directed to the Reserves' lead state agencies or universities.

COST SHARING REQUIREMENTS: Matching requirements include 50 percent match of the total grant project for land acquisition and 30 percent match of the total grant project for construction.

INTERGOVERNMENTAL REVIEW: Applications under this program are subject to Executive Order 12372, “Intergovernmental Review of Federal Programs.”

National Weather Service

1. Automated Flood Warning Systems (AFWS) Program

SUMMARY DESCRIPTION: The National Weather Service (NWS) is soliciting requests to provide capital funds for the creation, renovation, or enhancement of rain and stream gage networks that are locally operated and maintained with non-NOAA resources. The expected period of performance may be up to two years with an anticipated start date of May 1, 2007. The NWS will partner with entities that can demonstrate a long-term ability to operate and maintain an AFWS and provide the data to the NWS. The program priorities for this opportunity support NOAA's mission support goal of: Weather and Water - Serve Society's Needs for Weather and Water Information.

FUNDING AVAILABILITY: Approximately $400,000 will be available each fiscal year subject to the availability of funds. NWS will only accept proposals that are less than $100,000 and one year in duration; or less than $200,000 and two years in duration. Proposals that exceed these limits will be returned without review. It is anticipated that 5 to 10 awards will be granted each year.

STATUTORY AUTHORITY: 15 U.S.C. 313 and 33 U.S.C. 883d.

CATALOG OF FEDERAL DOMESTIC ASSISTANCE (CFDA) NUMBER: 11.450, Automated Flood Warning System

APPLICATION DEADLINE: Proposals must be received by the NWS no later than 4 p.m., eastern daylight savings time, October 31, 2006.

ADDRESS FOR SUBMITTING PROPOSALS: Applicants are strongly encouraged to submit proposals electronically through the Grants.gov Web site http://www.grants.gov. Hard copy applications can be submitted (by postal mail, commercial delivery service, or hand delivery)to NOAA/NWS; 1325 East-West Highway, Room 13396; Silver Spring, MD 20910-3283.

INFORMATION CONTACT(S): John Bradley, NOAA/NWS; 1325 East-West Highway, Room 13396; Silver Spring, Maryland 20910-3283, or by phone at 301-713-0624 ext. 154, or fax to 301-713-1520, or via internet at john.bradley@noaa.gov.

ELIGIBILITY: Eligible applicants are non-profit organizations, state, local and Indian tribal governments.

COST SHARING REQUIREMENTS: None. However, applicant resource commitment will be considered in the competitive selection process.

INTERGOVERNMENTAL REVIEW: Applications under this program are not subject to Executive Order 12372, An “Intergovernmental Review of Federal Programs”.

2. Collaborative Science, Technology, and Applied Research (CSTAR) Program

SUMMARY DESCRIPTION: The National Weather Service (NWS), Office of Science and Technology, announces the availability of Federal assistance via the CSTAR Program. The CSTAR Program represents an NOAA/NWS effort to create a cost-effective transition from basic and applied research to operations and services through collaborative research between operational forecasters and academic institutions which have expertise in the environmental sciences. These activities will engage researchers and students in applied research of interest to the operational meteorological community and will improve the accuracy of forecasts and warnings of environmental hazards by applying scientific knowledge and information to operational products and services. Program priorities focus on addressing the identified science priorities from NWS Regions and National Centers for Environmental Prediction service centers and/or incorporating solutions to science issues related to interactive forecast preparation systems and gridded data bases. The program priorities for this opportunity support NOAA's mission support goal of: Weather and Water - Serve Society's Needs for Weather and Water Information.

FUNDING AVAILABILITY: The total funding amount available for proposals is anticipated to be approximately $500,000 per year. However, there is no appropriation of funds at this time and no guarantee that there will be. Individual annual awards in the form of cooperative agreements are limited to a maximum of $125,000 per year for no more than three years. We anticipate making 4 awards.

STATUTORY AUTHORITY: Authority for the CSTAR program is provided by the following: 15 U.S.C. 313; 49 U.S.C. 44720 (b); 33 U.S.C. 883d; 15 U.S.C. 2904; 15 U.S.C. 2934.

CATALOG OF FEDERAL DOMESTIC ASSISTANCE (CFDA) NUMBER: 11.468, Applied Meteorological Research.

APPLICATION DEADLINE: Proposals must be received no later than 5 p.m. eastern daylight time, October 20, 2006.

ADDRESS FOR SUBMITTING PROPOSALS: Proposals must be submitted electronically via http://www.grants.gov, or as hard copy (by postal mail, commercial delivery service, or hand delivery) to NWS/OST only if the applicant has no internet access. Hard copy proposals must be submitted to: Sam Contorno, NOAA/NWS, 1325 East-West Highway, Silver Spring, MD 20910. Tel: 301-713-3557 X150.

INFORMATION CONTACT: Sam Contorno (NOAA Program Officer), by phone at 301-713-3557 ext. 150, or fax to 301 713-1253, or via email: Samuel.Contorno@noaa.gov.

ELIGIBILITY: Eligible applicants are institutions of higher education and federally funded educational institutions such as the Naval Postgraduate School. At least two of the principal investigators (PIs) within this program must be full, assistant, or associate college or university professors with substantial documented involvement in the proposal. Proposals must be submitted by at least two PIs from the same college or university.

COST SHARING REQUIREMENTS: None.

INTERGOVERNMENTAL REVIEW: Applications under this program are not subject to Executive Order 12372, “Intergovernmental Review of Federal Programs.”

3. Hydrologic Research

SUMMARY DESCRIPTION: This program announcement is for projects to be conducted by research investigators for a 1-year, 2-year, or 3-year period. June 1, 2007, should be used as the proposed start date on proposals. This program represents an NOAA/NWS effort to create a cost-effective continuum of basic and applied research through collaborative research between the Hydrology Laboratory of the NWS Office of Hydrologic Development and academic communities or other private or public agencies which have expertise in the hydrometerologic, hydrologic, and hydraulic routing sciences. These activities will engage researchers and students in basic and applied research to improve the scientific understanding of river forecasting. Ultimately these efforts will improve the accuracy of forecasts and warnings of rivers and flash floods by applying scientific knowledge and information to NWS research methods and techniques, resulting in a benefit to the public. NOAA's program is designed to complement other agency contributions to that national effort. The program priorities for this opportunity support NOAA's mission support goal of: Weather and Water - Serve Society's Needs for Weather and Water Information.

FUNDING AVAILABILITY: Because of funding uncertainty, the Office of Hydrologic Development requests that interested organizations prepare eight-page (maximum) pre-proposals. Once funding availability is confirmed, (or earlier if the likelihood of funding is considered high), the Office of Hydrologic Development will invite the authors of the best pre-proposals to submit full proposals. Proposals should be prepared assuming an annual budget of no more than $125,000. It is expected that approximately four awards will be made, depending on availability of funds.

STATUTORY AUTHORITY: 15 U.S.C. 313.

CATALOG OF FEDERAL DOMESTIC ASSISTANCE (CFDA) NUMBER: 11.462, Hydrologic Research.

APPLICATION DEADLINE: Pre-proposals are due no later 3 pm eastern daylight time on September 15, 2006. Invitation for full-proposal submittal will be sent on October 13, 2006 Full-proposals are due no later than 3 p.m. eastern standard time on November 15th, 2006. Pre-proposals should be submitted by email to Pedro.Restrepo@noaa.gov. For applicants without internet access, they should be sent to NOAA/NWS; 1325 East-West Highway, Room 8346; Silver Spring, Maryland 20910-3283. Full proposals should be submitted through http://www.grants.gov. For applicants without internet access, they may be sent to NOAA/NWS; 1325 East-West Highway, Room 8346; Silver Spring, Maryland 20910-3283.

INFORMATION CONTACT(S): Dr. Pedro Restrepo by phone at 301-713-0640 ext. 210, or fax to 301 713-0963, or via internet at Pedro.Restrepo@noaa.gov.

ELIGIBILITY: Eligible applicants are Federal agencies, institutions of higher education, other nonprofits, commercial organizations, foreign governments, organizations under the jurisdiction of foreign governments, and international organizations, state, local and Indian tribal governments.

COST SHARING REQUIREMENTS: None.

INTERGOVERNMENTAL REVIEW: Applications under this program are not subject to Executive Order 12372, “Intergovernmental Review of Federal Programs.”

PLEASE NOTE: Before non NOAA Federal applicants may be funded, they must demonstrate that they have legal authority to receive funds from another Federal agency in excess of their appropriation. Because this announcement is not proposing to procure goods or services from applicants, the Economy Act (31 USC 1535) is not an appropriate legal basis.

Oceans and Atmospheric Research

1. Ballast Water Technology Demonstration Program Competitive Funding Announcement (Research, Development, Testing and Evaluation Facility)

SUMMARY DESCRIPTION: NOAA and the U.S. Fish and Wildlife Service (FWS) expect to entertain proposals to develop a Cooperative Agreement to establish Research, Development, Testing and Evaluation (RDTE) facilities in US Coastal Regions other than the Great Lakes. The mission of any funded RDTE facility will be to support progress in the development of commercially viable ballast water treatment technologies. NOAA and FWS will also entertain proposals to support planning activities which could lead to additional ballast water RDTE facilities in the future.

The program priorities for this opportunity support NOAA's mission support goal of: Ecosystems - Protect, Restore, and Manage Use of Coastal and Ocean Resources through Ecosystem-Based Management and NOAA's Commerce and Transportation mission support goal of: Support the Nation's Commerce with Information for Safe, Efficient and Environmentally Sound Transportation.

FUNDING AVAILABILITY: Depending on 2007 appropriations and the quality of proposals received, the National Oceanic and Atmospheric Administration (NOAA), and the U.S. Fish and Wildlife Service (FWS) expect to make available up to about $1 million in funds in FY 2007 for four-year cooperative agreements involving federal, state, nongovernmental and private entities to create and operate ballast water research, development, testing and evaluation (RDTE) facilities. We anticipate making 1 or 2 awards in FY2007. Depending on funding available in future years, a total of up to $1,250,000 is anticipated to be awarded over the four years of the cooperative agreement.

STATUTORY AUTHORITY: Statutory authority for this program is provided under 16 U.S.C. 4701 et seq.; 33 U.S.C. 1121-1131; 46 U.S.C. App 1211 (2000); 50 U.S.C. App 1744 (2000).

CATALOG OF FEDERAL DOMESTIC ASSISTANCE (CFDA) NUMBER: 11.417, Sea Grant Support.

APPLICATION DEADLINE: Preliminary proposals must be received by the National Sea Grant Office by 5 p.m. EDT on Thursday, September 14, 2006. Full proposals must be received by 5 p.m. EST on Tuesday, December 19, 2007.

ADDRESS FOR SUBMITTING APPLICATIONS: Preliminary proposals must be submitted to the National Sea Grant Office, Attn: Mrs. Geraldine Taylor, SG-Ballast Water, 1315 East-West Highway, R/SG, Rm 11732, Silver Spring, MD 20910. Telephone number for express mail applications is 301-713-2445. Full proposals should be submitted through Grants.gov http://www.grants.gov or those applicants without internet access, hard copy proposals may be sent to the above address.

INFORMATION CONTACT(S): Competition Coordinator: Melissa Pearson, NOAA National Sea Grant Office, 301-713-2451 x190, ballast.water@noaa.gov. Agency Program Managers: Dorn Carlson, NOAA National Sea Grant Office, 301- 713-2435, ballast.water@noaa.gov; or Pamela Thibodeaux, U.S. Fish and Wildlife Service, 703-358-2493, Pamela_Thibodeaux@fws.gov.

ELIGIBILITY: Individuals, institutions of higher education, nonprofit organizations, commercial organizations, Federal, State, local and Indian tribal governments, foreign governments, organizations under the jurisdiction of foreign governments, and international organizations are eligible. Only those who submit preliminary proposals by the deadline are eligible to submit full proposals.

COST SHARING REQUIREMENTS: Applications for RDTE facility cooperative agreements must include additional matching funds equal to at least 20% of the NOAA funds requested. In-kind services are eligible to satisfy the match requirement. Applications for startup grants have no cost sharing requirement.

INTERGOVERNMENTAL REVIEW: Applications under this program are not subject to Executive Order 12372, “Intergovernmental Review of Federal Programs.”

2. Ballast Water Technology Demonstration Program Competitive Funding Announcement (Treatment Technology Demonstration Projects)

SUMMARY DESCRIPTION: NOAA, the U.S. Fish and Wildlife Service, and the U.S. Maritime Administration expect to entertain proposals to conduct ballast water treatment technology testing and demonstration projects. The Ballast Water Technology Demonstration Program supports projects to develop, test, and demonstrate technologies that treat ships' ballast water in order to reduce the threat of introduction of aquatic invasive species to U.S. waters through the discharge of ballast water.

The program priorities for this opportunity support NOAA's mission support goal of: Ecosystems - Protect, Restore, and Manage Use of Coastal and Ocean Resources through Ecosystem-Based Management and NOAA's Commerce and Transportation mission support goal of: Support the Nation's Commerce with Information for Safe, Efficient and Environmentally Sound Transportation.

FUNDING AVAILABILITY: Depending on 2007 appropriations, NOAA and the U.S. Fish and Wildlife Service (FWS) expect to make available up to about $1.5 Million in FY 2007, and the U.S. Maritime Administration (MARAD) expects to make available several vessels for use as test platforms, to support ballast water treatment technology demonstration projects. The maximum amount of award will vary with the scale of the proposed project. Depending on the funding available and the number and quality of proposals received, approximately 5 grants with a median value of about $200,000 are anticipated to be awarded.

STATUTORY AUTHORITY: Statutory authority for this program is provided under 16 U.S.C. 4701 et seq.; 33 U.S.C. 1121-1131; 46 U.S.C. App 1211 (2000); 50 U.S.C. App 1744 (2000).

CATALOG OF FEDERAL DOMESTIC ASSISTANCE (CFDA) NUMBER: 11.417, Sea Grant Support; 15.FFA Fish and Wildlife Management Assistance.

APPLICATION DEADLINE: Letters of Intent to apply must be received by the National Sea Grant Office by 5 p.m. EDT on Thursday, September 14, 2006. Full-proposals must be received by 5 p.m. EST on Wednesday, January 10, 2007.

ADDRESS FOR SUBMITTING APPLICATIONS: Letters of intent must be submitted to the National Sea Grant Office, Attn: Mrs. Geraldine Taylor, SG-Ballast Water, 1315 East-West Highway, R/SG, Rm 11732, Silver Spring, MD 20910. Telephone number for express mail applications is 301-713-2445. Full proposals should be submitted through Grants.gov at http://www.grants.gov or those applicants without internet access, hard copy proposals (1 unbound original and 1 copy) may be sent to the above address.

INFORMATION CONTACT(S): Competition Coordinator: Melissa Pearson, NOAA National Sea Grant Office, 301-713-2451 x190, ballast.water@noaa.gov. Agency Program Managers: Dorn Carlson, NOAA National Sea Grant Office, 301- 713-2435, ballast.water@noaa.gov; Pamela Thibodeaux, U.S. Fish and Wildlife Service, 703-358-2493, Pamela_Thibodeaux@fws.gov; or Carolyn Junemann, U.S. Maritime Administration, 202-366-1920, Carolyn.Junemann@marad.dot.gov.

ELIGIBILITY: Individuals, institutions of higher education, nonprofit organizations, commercial organizations, Federal, State, local and Indian tribal governments, foreign governments, organizations under the jurisdiction of foreign governments, and international organizations are eligible. Only those who submit letters of intent by the deadline are eligible to submit full proposals.

COST SHARING REQUIREMENTS: None.

INTERGOVERNMENTAL REVIEW: Applications under this program are not subject to Executive Order 12372, “Intergovernmental Review of Federal Programs.”

3. National Sea Grant College Program Aquatic Invasive Species Research and Outreach

SUMMARY DESCRIPTION: The National Sea Grant College Program seeks to fund research and outreach projects addressing the introduction and spread of aquatic invasive species. The goal of the program is to discover and develop information and tools that can lead to the prevention, monitoring and control of aquatic invasive species threatening United States coastal, oceanic and Great Lakes communities, resources and ecosystems.

The program seeks especially to support NOAA-relevant regional research and outreach priorities identified by the Regional Panels of the Aquatic Nuisance Species Task Force. Consult the full Federal Funding Opportunity for these priorities.

Appropriate areas of research may include: biology and life history research, population dynamics, genetics, physiology, behavior, and parasites and diseases of invasive species, ecological and environmental tolerances of invasive species, impacts of invasive species at each stage of their life history on the environment, resources, and human health, research into invasive species control measures (engineering, physical, chemical, biological, physicochemical, administrative, and educational), and economic impact analysis of invasive species on marine and coastal resources, sport, commercial and tribal fisheries, the recreation and tourism industry, the shipping and navigation industry, and municipal and industrial water users.

Other appropriate areas of endeavor may include: use of research results to provide a scientific basis for developing sound policy and environmental law, public education and technology transfer, research and outreach into identifying vectors of aquatic invasive species introduction, and education and outreach activities that will transfer this information to the appropriate users.

The program priorities for this opportunity support NOAA's mission support goal of: Ecosystems - Protect, Restore, and Manage Use of Coastal and Ocean Resources through Ecosystem-Based Management.

FUNDING AVAILABILITY: Depending on the 2007 funding appropriation, about $250,000 is anticipated to be available to support invasive species research and outreach projects, in FY 2007. Federal funding will be limited to $100,000 per project. Projects may be for up to two years duration. It is anticipated that no more than five projects will be funded in 2007. Depending on 2008 appropriations, additional projects may be funded in 2008 without further competition.

STATUTORY AUTHORITY: Statutory authority for this program is provided under 33 U.S.C. 1121-1131.

CATALOG OF FEDERAL DOMESTIC ASSISTANCE (CFDA) NUMBER: 11.417, Sea Grant Support.

APPLICATION DEADLINE: Preliminary proposal/Full Proposal: All applicants have the same application deadlines, regardless of where they are sending the application. Applications must be received by 4 p.m. EDT on August 17, 2006 for preliminary proposals and by 4 p.m. EST on December 19, 2006 for full proposals. Forwarding of application materials: Applications received by state Sea Grant Programs must be forwarded by August 24, 2006 for preliminary proposals and by 4 p.m. EST January 18, 2007 for full proposals.

ADDRESSES FOR SUBMITTING PROPOSALS: APPLICANTS IN SEA GRANT STATES: Applicants from Sea Grant states must submit preliminary and full proposals to their state Sea Grant Program, to the addresses and following the submission procedures provided by that Program. Consult your state Sea Grant Program or the full Federal Funding Opportunity for information on addresses and submission procedures. (A list of Sea Grant states is in SUPPLEMENTARY INFORMATION, below). APPLICANTS NOT IN SEA GRANT STATES: Preliminary and full proposals from applicants not in Sea Grant states may be submitted to the nearest state Sea Grant Program, in which case they must comply with the submission procedures set by that Program. Alternatively, they may be sent directly to the NSGO. If they are sent directly to NSGO, preliminary proposals must be submitted in paper hardcopy, to National Sea Grant Office, Attn: Mrs. Geraldine Taylor, Invasive Species, 1315 East-West Highway, R/SG, Rm 11732, Silver Spring, MD 20910, telephone 301 713 2445. Full proposals must be submitted electronically via http://www.grants.gov. Consult the Full Funding Opportunity for information on how applicants without internet access may submit full proposals.

INFORMATION CONTACT(S): Dorn Carlson, NOAA National Sea Grant Office, 301-713-2435; via internet at invasive.species@noaa.gov. Contact information for state Sea Grant Programs can be found at http://www.seagrant.noaa.gov/other/programsdirectors.html.

ELIGIBILITY: Individuals, institutions of higher education, nonprofit organizations, commercial organizations, State, local and Indian tribal governments, foreign governments, and international organizations are eligible. Only those who submit pre-proposals by the deadline are eligible to submit full proposals.

COST SHARING REQUIREMENTS: Applicants are required to provide one dollar non-Federal funds for every two dollars of Federal funds requested.

INTERGOVERNMENTAL REVIEW: Applications under this program are not subject to Executive Order 12372, “Intergovernmental Review of Federal Programs.”

OTHER INFORMATION: Sea Grant states are: Alabama; Alaska; California; Connecticut; Delaware; Florida; Georgia; Hawaii; Illinois, Indiana, Louisiana; Maine; Maryland; Massachusetts; Michigan; Minnesota; Mississippi; New York; New Hampshire; New Jersey; North Carolina; Ohio; Oregon; Pennsylvania; Puerto Rico; Rhode Island; South Carolina; Texas; Vermont; Virginia; Washington; and Wisconsin. Information and internet links to state Sea Grant Programs can be found at: http://www.seagrant.noaa.gov/colleges/colleges.html.

4. Sea Grant - The Gulf of Mexico Oyster Industry Program (GOIP)

SUMMARY DESCRIPTION: The National Sea Grant College Program (Sea Grant) within OAR is seeking proposals to participate in innovative research, outreach and demonstration to continue the Gulf of Mexico Oyster Industry Program. The goal of the Gulf Oyster Industry Program is to encourage multi-disciplinary research and extension projects that contribute directly to the recovery, efficiency, and profitability of oyster-related businesses and to the safety of oyster products. Oyster businesses seek innovative solutions at all producing and processing levels, including: habitat restoration, planting and production (landings), oyster disease diagnostics, harvesting, post-harvest treatment, processing, distribution, marketing, consumer education, and food safety. The program priorities for this opportunity support NOAA's mission support goal of: Ecosystems - Protect, Restore, and Manage Use of Coastal and Ocean Resources through Ecosystem-Based Management.

FUNDING AVAILABILITY: Approximately $2 million is available for the GOIP in FY 2007 and a similar amount is expected, but not assured for FY 2008. Therefore, two-year proposals are being accepted. Funding will be on an annual basis, with renewal dependent upon satisfactory demonstration of progress and availability of funds. There is no limit on the budget for the proposals so that multiple partners can come together to address the significant issues that are identified under the Program Priorities for this competition. We anticipate making six to ten awards per year with an anticipated start date of June 1, 2007.

STATUTORY AUTHORITY: Statutory authority for this program is provided under: 33 U.S.C. 1121-1131.

CATALOG OF FEDERAL DOMESTIC ASSISTANCE (CFDA) NUMBER: 11.417, Sea Grant Support.

APPLICATION DEADLINE: Preliminary proposal/Full Proposal: All applicants have the same application deadlines, regardless of where they are sending the application. Applications must be received by 4 p.m. EDT on August 17, 2006 for preliminary proposals and by 4 p.m. EST on December 19, 2006 for full proposals. Forwarding of application materials: Applications received by state Sea Grant Programs must be forwarded by August 24, 2006 for preliminary proposals and by 4 p.m. EST January 18, 2007 for full proposals.

ADDRESSES FOR SUBMITTING PROPOSALS: SEA GRANT PROGRAMS: Sea Grant Programs must consult with the National Sea Grant Office on procedures and addresses for submitting preliminary proposals. Full proposals must be submitted electronically via http://www.grants.gov. ALL OTHER APPLICANTS IN SEA GRANT STATES: Applicants from Sea Grant states must submit preliminary and full proposals to their state Sea Grant Program, to the addresses and following the submission procedures provided by that Program. Consult your state Sea Grant Program or the full Federal Funding Opportunity for information on addresses and submission procedures. (A list of Sea Grant states is in SUPPLEMENTARY INFORMATION, below). APPLICANTS NOT IN SEA GRANT STATES: Preliminary and full proposals from applicants not in Sea Grant states may be submitted to the nearest state Sea Grant Program, in which case they must comply with the submission procedures set by that Program. Alternatively, they may be sent directly to the NSGO. If they are sent directly to NSGO, preliminary proposals must be submitted in paper hardcopy, to National Sea Grant Office, Attn: Mrs. Geraldine Taylor, Invasive Species, 1315 East-West Highway, R/SG, Rm 11732, Silver Spring, MD 20910, telephone 301 713 2445. Full proposals must be submitted electronically via http://www.grants.gov. Consult the Full Funding Opportunity for information on how applicants without internet access may submit full proposals.

INFORMATION CONTACT(S): Dr. Jacques L. Oliver, 301-713-2431,e-mail: jacques.oliver@noaa.gov, or any state Sea Grant Program. Contact information for state Sea Grant Programs can be found at http://www.seagrant.noaa.gov/other/programsdirectors.html.

ELIGIBILITY: Individuals, institutions of higher education, nonprofit organizations, commercial organizations, Federal, State, local and Indian tribal governments, foreign governments, and international organizations are eligible. Only those who submit preliminary proposals by the preliminary proposal deadline are eligible to submit full proposals. Those applicants who submitted preliminary proposals by the preliminary proposal deadline, but who are not recommended by the pre-proposal review process would still be eligible to submit full proposals.

COST SHARING REQUIREMENTS: Applicants are required to provide one dollar for every two of Federal funds.

INTERGOVERNMENTAL REVIEW: Applications under this program are not subject to Executive Order 12372, “Intergovernmental Review of Federal Programs.”

OTHER INFORMATION: Sea Grant states are: Alabama; Alaska; California; Connecticut; Delaware; Florida; Georgia; Hawaii; Illinois, Indiana, Louisiana; Maine; Maryland; Massachusetts; Michigan; Minnesota; Mississippi; New York; New Hampshire; New Jersey; North Carolina; Ohio; Oregon; Pennsylvania; Puerto Rico; Rhode Island; South Carolina; Texas; Vermont; Virginia; Washington; and Wisconsin. Information and internet links to state Sea Grant Programs can be found at: http://www.seagrant.noaa.gov/colleges/colleges.html.

5. Sea Grant - Oyster Disease Research Program (ODRP)

SUMMARY DESCRIPTION: The National Sea Grant College Program within OAR is seeking proposals to participate in innovative research that provides technology and management strategies to combat oyster disease and bring about the restoration of oysters and the oyster industry in U.S. coastal areas. The goal of the Oyster Disease Research Program (ODRP) is to improve the survivability of oysters in U.S. coastal waters and to improve technology for disease management and control. The program priorities for this opportunity support NOAA's mission support goal of: Ecosystems - Protect, Restore, and Manage Use of Coastal and Ocean Resources through Ecosystem-Based Management.

FUNDING AVAILABILITY: Approximately $2 million is available for the ODRP in FY 2007 and a similar amount is expected, but not assured for FY 2008. Therefore, two-year proposals are being accepted. Funding will be on an annual basis, with renewal dependent upon satisfactory demonstration of progress and availability of funds. There is no limit on the budget for the proposals so that multiple partners can come together to address the significant issues that are identified under the Program Priorities for this competition. We anticipate making six to ten awards per year with an anticipated start date of June 1, 2007.

STATUTORY AUTHORITY: Statutory authority for this program is provided under: 33 U.S.C. 1121-1131.

CATALOG OF FEDERAL DOMESTIC ASSISTANCE (CFDA) NUMBER: 11.417, Sea Grant Support.

APPLICATION DEADLINE: Preliminary proposal/Full Proposal: All applicants have the same application deadlines, regardless of where they are sending the application. Applications must be received by 4 p.m. EDT on August 17, 2006 for preliminary proposals and by 4 p.m. EST on December 19, 2006 for full proposals. Forwarding of application materials: Applications received by state Sea Grant Programs must be forwarded by August 24, 2006 for preliminary proposals and by 4 p.m. EST January 18, 2007 for full proposals.

ADDRESSES FOR SUBMITTING PROPOSALS: SEA GRANT PROGRAMS: Sea Grant Programs must consult with the National Sea Grant Office on procedures and addresses for submitting preliminary proposals. Full proposals must be submitted electronically via http://www.grants.gov. ALL OTHER APPLICANTS IN SEA GRANT STATES: Applicants from Sea Grant states must submit preliminary and full proposals to their state Sea Grant Program, to the addresses and following the submission procedures provided by that Program. Consult your state Sea Grant Program or the full Federal Funding Opportunity for information on addresses and submission procedures. (A list of Sea Grant states is in OTHER INFORMATION, below). APPLICANTS NOT IN SEA GRANT STATES: Preliminary and full proposals from applicants not in Sea Grant states may be submitted to the nearest state Sea Grant Program, in which case they must comply with the submission procedures set by that Program. Alternatively, they may be sent directly to the NSGO. If they are sent directly to NSGO, preliminary proposals must be submitted in paper hardcopy, to National Sea Grant Office, Attn: Mrs. Geraldine Taylor, Invasive Species, 1315 East-West Highway, R/SG, Rm 11732, Silver Spring, MD 20910, telephone 301 713 2445. Full proposals must be submitted electronically via http://www.grants.gov. Consult the Full Funding Opportunity for information on how applicants without internet access may submit full proposals.

INFORMATION CONTACT(S): Dr. Jacques L. Oliver, 301-713-2431, e-mail: jacques.oliver@noaa.gov, or any state Sea Grant Program. Contact information for state Sea Grant Programs can be found at http://www.seagrant.noaa.gov/other/programsdirectors.html.

ELIGIBILITY: Individuals, institutions of higher education, nonprofit organizations, commercial organizations, Federal, State, local and Indian tribal governments, foreign governments, and international organizations are eligible. Only those who submit preliminary proposals by the preliminary proposal deadline are eligible to submit full proposals. Those applicants who submitted preliminary proposals by the preliminary proposal deadline, but who are not recommended by the pre-proposal review process would still be eligible to submit full proposals.

COST SHARING REQUIREMENTS: Applicants are required to provide one dollar for every two of Federal funds.

INTERGOVERNMENTAL REVIEW: Applications under this program are not subject to Executive Order 12372, “Intergovernmental Review of Federal Programs.”

OTHER INFORMATION: Sea Grant states are: Alabama; Alaska; California; Connecticut; Delaware; Florida; Georgia; Hawaii; Illinois, Indiana, Louisiana; Maine; Maryland; Massachusetts; Michigan; Minnesota; Mississippi; New York; New Hampshire; New Jersey; North Carolina; Ohio; Oregon; Pennsylvania; Puerto Rico; Rhode Island; South Carolina; Texas; Vermont; Virginia; Washington; and Wisconsin. Information and internet links to state Sea Grant Programs can be found at: http://www.seagrant.noaa.gov/colleges/colleges.html.

6. Joint Hurricane Testbed

SUMMARY DESCRIPTION: The Office of Oceanic and Atmospheric Research (OAR), National Oceanic and Atmospheric Administration (NOAA), is soliciting letters of intent under the United States Weather Research Program (USWRP), as administrated by the USWRP Joint Hurricane Testbed (JHT). This notice also provides guidelines for the submission of full proposals and describes the application procedures for the transfer of relevant research and technology advances into tropical cyclone analysis and forecast operations. This notice calls for researchers to submit proposals to test and evaluate, and modify if necessary, in a quasi operational environment, their own scientific and technological research applications. Projects satisfying metrics for success and operational constraints may be selected for operational implementation by the operational center(s) after the completion of the JHT funded work. The program priorities for this opportunity support NOAA's mission support goal of: Weather and Water - Serve Society's Needs for Weather and Water Information.

FUNDING AVAILABILITY: The total amount available for proposals is anticipated to be approximately $1,500,000 per year. Approximately 10 to 15 new projects are expected to be funded in the form of cooperative agreements with individual awards expected to mostly range between $50,000 per year and $200,000 per year for no more than two years.

STATUTORY AUTHORITY: Statutory authority for this program is provided under 33 U.S.C. 883d and 49 U.S.C. 44720(b).

CATALOG OF FEDERAL DOMESTIC ASSISTANCE (CFDA) Number: 11.431, Climate and Atmospheric Research

APPLICATION DEADLINE: Letters of intent must be received no later than 5 p.m. eastern daylight time, July 31, 2006.

ADDRESS FOR SUBMITTING PROPOSALS: Full proposals must be submitted electronically via http://www.grants.gov, or as hard copy (by postal mail, commercial delivery service, or hand delivery) to the Tropical Prediction Center/National Hurricane Center of the National Weather Service. Letters of intent and hard copy full proposals must be submitted to: ATTN: Dr. Jiann Gwo Jiing, Director, Joint Hurricane Testbed, Tropical Prediction Center, 11691 SW 17th Street, Miami, FL 33165, phone (305) 229-4443.

INFORMATION CONTACT: Dorothy Fryar, DOC/NOAA, Office of Weather &Air Quality Research, Routing Code R/WA, 1315 East West Highway, Room 11445, Silver Spring, MD 20910, phone (301) 713 0460 ext. 168, e-mail Dorothy.Fryar@noaa.gov.

ELIGIBILITY: Eligible applications can be from institutions of higher education, other non-profits, commercial organizations, and state, local and Indian tribal governments, and Federal agencies.

COST SHARING REQUIREMENTS: None

INTERGOVERNMENTAL REVIEW: Applications under this program are not subject to Executive Order 12372, “Intergovernmental Review of Federal Programs.”

7. NOAA Office of Ocean Exploration Announcement of Opportunity, FY 2007

SUMMARY DESCRIPTION: The NOAA Office of Ocean Exploration (OE) is seeking pre-proposals and full proposals to support its mission to search, investigate, and document unknown and poorly known areas of the ocean and Great Lakes through interdisciplinary exploration, and to advance and disseminate knowledge of the ocean environment and its physical, chemical, biological, and historical resources. Successful OE proposals will be, innovative, and broad-based in terms of their approach and objectives. OE is soliciting proposals whose objectives fall within one of the following categories: Ocean Exploration, Marine Archaeology, and Education. The program priorities for this opportunity support NOAA's mission support goal of: Ecosystems - Protect, Restore, and Manage Use of Coastal and Ocean Resources through Ecosystem-Based Management.

FUNDING AVAILABILITY: Through this announcement, NOAA OE anticipates awarding 14 projects totaling approximately $2,100,000, including ship and submersible costs. Submissions focusing solely on technology development will not be accepted. Total funding estimates are: Ocean Exploration $1,400,000; Archaeology $400,000; and Education $300,000.

STATUTORY AUTHORITY: 33 U.S.C. 883d.

CATALOG OF FEDERAL DOMESTIC ASSISTANCE NUMBER: 11.460, Special Oceanic and Atmospheric Projects.

APPLICATION DEADLINE: Pre-proposals must be received by 5 p.m. (EDT) on July 10, 2006. Full proposal submissions must be received by 5 p.m. (Eastern) on September 8, 2006.

ADDRESS FOR SUBMITTING PROPOSALS: Pre-proposals must be sent to: ATTN: Proposal Manager, NOAA Office of Ocean Exploration, 1315 East-West Highway, SSMC3, 10th Floor, Silver Spring, MD, 20910. Tel: 301-713-9444. Full proposals should be submitted to http://www.grants.gov. For applicants without internet access and federal applicants, full proposals should be sent to ATTN: Proposal Manager, NOAA Office of Ocean Exploration, 1315 East-West Highway, SSMC3, 10th Floor, Silver Spring, MD, 20910. Tel: 301-713-9444. No e-mail or facsimile pre-proposals will be accepted.

INFORMATION CONTACT(S): For further information contact the NOAA Office of Ocean Exploration at 301-713-9444 x130 or submit inquiries via e-mail to the Frequently Asked Questions address: oar.oe.FAQ@noaa.gov. E-mail inquiries should include the Principal Investigator's name in the subject heading.

Eligibility: Eligible applicants are institutions of higher education, other nonprofits, commercial organizations, organizations under the jurisdiction of foreign governments, international organizations, state, local and Indian tribal governments. Applications from Federal agencies will be considered. Please Note: Before non-NOAA federal applicants may be funded, they must demonstrate that they have legal authority to receive funds from another federal agency in excess of their appropriation. Because this announcement is not proposing to procure goods or services from applicants, the Economy Act (31 U.S.C. 1535) is not an appropriate legal basis.

COST SHARING REQUIREMENTS: Cost-sharing is not required.

INTERGOVERNMENTAL REVIEW: Applications under this program are subject to Executive Order 12372, “Intergovernmental Review of Federal Programs.” Applicants must contact their State's Single Point of Contact (SPOC) to find out about and comply with the State's process under EO 12372. The names and addresses of the SPOCs are listed in the Office of Management and Budget's Web site: http://www/whitehouse.gov/omb/grants/spoc.html.

8. Administration of NOAA's Graduate Sciences Program

SUMMARY DESCRIPTION: NOAA's Office of Education, Educational Partnership Program announces the availability of Federal assistance to a not-for-profit organization for the administration of its EPP Graduate Sciences Program. The goal of the Graduate Sciences Program is to provide college graduates who have received at least a Bachelor's degree in mathematics, science, economics, law, and engineering, entry-level employment and hands-on research and work experience at NOAA. The program's objective is to increase the number of students who undertake course work and graduate with degrees in the targeted areas integral to NOAA's mission.

The goal of the NOAA, Office of Education, EPP/MSI Graduate Sciences Program (GSP) is aimed primarily at increasing opportunities and available programs for students in NOAA related fields to pursue research and educational training in atmospheric, environmental, and oceanic sciences at Minority Serving Institutions (MSI) when possible. All students are competitively selected for positions in NOAA offices and facilities.

This program provides for formal periods of work, study, and structured classroom training programs in meteorology, hydrology, cartography, oceanography, ecology, remote sensing technology, environmental science and planning, marine science, fisheries biology, computer science, and environmental law. GSP pays for tuition, books, lab fees, campus housing allowance, and travel expenses for an orientation program at NOAA Headquarters in Silver Spring, Maryland, at the beginning of their appointment. NOAA scientists are assigned as mentors to graduate scientists during the training period.

The progress of the students is monitored throughout the academic year and during the intermittent career work experiences. Under the program, graduate students are required to present their research at conferences, scientific meetings and workshops, education and science forums, etc.

The program priorities for this opportunity support NOAA's mission support goal of: Critical Support - Facilities, ships, aircraft, environmental satellites, data-processing systems, computing and communications systems.

FUNDING AVAILABILITY: Subject to appropriations, this solicitation announces that funding at a maximum of $700,000 will be available for program administration of the Graduate Sciences Program over a four year period. The proposal is limited to one award. Funds will be provided incrementally on an annual basis in the amount of $175,000 for four years. Up to 18% is allowed for administrative overhead and at least 82% is for student support. Funding for each year's activity is contingent upon the availability of funds from Congress, satisfactory performance, submission and approval of a progress report, and is at the sole discretion of the agency. It is anticipated that the funding instrument will be a cooperative agreement since NOAA will be substantially involved in coordinating the student's career work experiences, and with collaboration, participation, or intervention in project performance.

STATUTORY AUTHORITIES: 15 U.S.C. 1540, 49 U.S.C. 44720, 33 U.S.C. 883d, 33 U.S.C. 1442, 16 U.S.C. 1854(e), 16 U.S.C. 661, 16 U.S.C. 753(a), 16 U.S.C 1451 et seq., 16 U.S.C. 1431, 33 U.S.C. 883a and Executive Orders 12876, 12900, 13021, 13336, and 13339.

CATALOG OF FEDERAL DOMESTIC ASSISTANCE (CFDA)NUMBER: 11.481 - Educational Partnership Program with Minority Serving Institutions.

APPLICATION DEADLINE: Applications must be received by NOAA Office of Education, Educational Partnership Program (EPP) no later than 5 p.m. (eastern standard time), on December 1, 2006.

ADDRESS FOR SUBMITTING PROPOSALS: Applications submitted in response to this announcement are strongly encouraged to submit via http://www.grants.gov. Electronic access to the full funding announcement for this program is also available at this site. The announcement will also be available at the NOAA EPP web site http://epp.noaa.gov or by contacting the program official identified below. If internet access is unavailable, paper applications (a signed original and two copies) may also be submitted to the NOAA, Office of Education, Educational Partnership Program at the following address: NOAA/EPP, 1315 East West Highway, Room 10703, Silver Spring, Maryland 20910. No facsimile applications will be accepted. Institutions are encouraged to submit Letters of Intent to NOAA/EPP within 30 days of this announcement to aid in planning the review processes.

Letters of Intent may be submitted via e-mail to Chantell.Haskins@noaa.gov. Information should include a general description of the program administration proposal.

INFORMATION CONTACTS: Chantell Haskins, Program Manager at (301) 713-9437 ext. 125 or Chantell.Haskins@noaa.gov.

ELIGIBILITY: Proposals will only be accepted from non-profit organizations.

COST SHARING REQUIREMENTS: None.

INTERGOVERNMENTAL REVIEW: Applications under this program are not subject to Executive Order 12372, “Intergovernmental Review of Federal Programs.”

9. Administration of NOAA's Undergraduate Scholarship Program

SUMMARY DESCRIPTION: The purpose of this document is to advise the public that NOAA's Office of Education (OEd), Educational Partnership Program is announcing the availability of Federal assistance for a not-for-profit organization to administer its Undergraduate Scholarship Program. The goal of the Undergraduate Scholarship Program is to increase the number of students who undertake course work and graduate with degrees in the targeted areas integral to NOAA's mission. This program targets students who have completed their sophomore year; attend Minority Serving Institutions; major in mathematics, science, or engineering; and have recently declared, or about to declare a major in atmospheric, oceanic, remote sensing technology, or environmental science disciplines.

The Undergraduate Scholarship participants must be U.S. citizens and attend an MSI including Hispanic Serving Institutions, Historically Black Colleges and Universities, Tribal College and Universities, Alaska-Native Serving Institutions, and Native Hawaiian Serving Institutions full-time, be pursuing studies in atmospheric science, biology, cartography, chemistry, computer science, engineering, environmental science, geodesy, geography, marine science, mathematics, meteorology, physical science, oceanography, marine biology, photogrammetry, or physics. Participants must have, and maintain, a 3.0 grade point average.

This program provides travel to students to approved NOAA offices and facilities; have students participate in current research and development activities; and provides financial assistance for tuition and fee costs to students for two academic years and two summers. Progress of the students is monitored throughout the academic years and during the summer internships. The program requires that the first summer internship be spent at a NOAA facility in the Washington, DC metropolitan area. The program requires that each student attend a roundtable discussion and give oral presentations on their research at NOAA Headquarters in Silver Spring, Maryland, at the conclusion of summer internships. The program requires that each second year student travel during their winter semester break to an approved NOAA site for the second summer internship.

The program priorities for this opportunity support NOAA's mission support goal of Critical Support - Facilities, ships, aircraft, environmental satellites, data-processing systems, computing and communications systems.

FUNDING AVAILABILITY: Subject to appropriations, this solicitation announces that funding at a maximum of $1,000,000 will be available for program administration of the Undergraduate Scholarship Program over a four-year period. The proposal is limited to a total of $500,000 for a maximum for a two year period and one proposal will be funded. Up to 18% of $500,000 is allowed for administrative overhead and at least 82% of $500,000 is for student support. It is anticipated that the funding instrument will be a cooperative agreement since NOAA will be substantially involved in identifying NOAA facilities to place students during the two summer internships.

STATUTORY AUTHORITIES: 15 U.S.C. 1540, 49 U.S.C. 44720, 33 U.S.C. 883d, 33 U.S.C. 1442, 16 U.S.C. 1854(e), 16 U.S.C. 661, 16 U.S.C 753(a), 16 U.S.C. 1451 et seq., 16 U.S.C. 1431, 33 U.S.C. 883a and Executive Orders 12876, 12900, 13021, 13336, and 13339.

CATALOG OF FEDERAL DOMESTIC ASSISTANCE (CFDA) NUMBER: 11.481 - Educational Partnership Program with Minority Serving Institutions.

APPLICATION DEADLINE: Applications must be received by NOAA Educational Partnership Program (EPP) by November 1, 2006, no later than 5 p.m. (eastern daylight time).

ADDRESS FOR SUBMITTING PROPOSALS: Applications submitted in response to this announcement should be submitted via http://www.grants.gov. Electronic access to the full funding announcement for this program is available via this site. The announcement will also be available at the NOAA EPP web site http://epp.noaa.gov or by contacting the program official identified below. Paper applications (a signed original and two copies) may also be submitted to the Educational Partnership Program at the following address: NOAA/EPP, 1315 East West Highway, Room 10703, Silver Spring, Maryland 20910. No facsimile applications will be accepted. Organizations are encouraged to submit Letters of Intent to NOAA/EPP within 30 days of this announcement to aid in planning the review processes. Letters of Intent may be submitted via e-mail to Chantell.Haskins@noaa.gov. Information should include a general description of the program administration proposal.

INFORMATION CONTACT: Chantell Haskins, Program Manager at (301) 713-9437 ext. 125 or Chantell.Haskins@noaa.gov.

ELIGIBILITY: Proposals will only be accepted from non-profit organizations.

COST SHARING REQUIREMENTS: None.

INTERGOVERNMENTAL REVIEW: Applications under this program are not subject to Executive Order 12372, “Intergovernmental Review of Federal Programs.”

NOAA Fellowship, Scholarship and Internship Programs

National Ocean Service (NOS)

1. Dr. Nancy Foster Scholarship Program; Financial Assistance for Graduate Students

SUMMARY DESCRIPTION: The Dr. Nancy Foster Scholarship Program is announcing funding availability for graduate students pursuing masters or doctoral level degrees in oceanography, marine biology, or maritime archaeology. Approximately $160,000 will be available through this announcement for fiscal year 2007. It is expected that approximately five awards will be made, depending on the availability of funds. The intent of this program is to recognize outstanding scholarship and encourage independent graduate level research in the above mentioned fields. The program priorities for this opportunity support NOAA's mission support goal of: Critical Support - Facilities, ships, aircraft, environmental satellites, data-processing systems, computing and communications systems.

STATUTORY AUTHORITY: 16 U.S.C. 1445c-1.

CATALOG OF FEDERAL DOMESTIC ASSISTANCE (CFDA) NUMBER: 11.429 National Marine Sanctuary Program

APPLICATION DEADLINE: Applications must be received between December 1, 2006, and February 9, 2007, no later than 5 p.m. eastern standard time.

ADDRESS FOR SUBMITTING PROPOSALS: Applications should be sent via http://www.grants.gov. If it is necessary to submit a hard copy application or any part thereof, it should be sent to the Dr. Nancy Foster Scholarship Program, Attention: Chantell Haskins, Office of Education, 1315 East-West Highway, Room 10703, Silver Spring, MD 20910.

INFORMATION CONTACT(S): Send your request for information to the Program Manager, Chantell Haskins, at the address shown above, by telephone (301) 713-9437 x125, or via e-mail to fosterscholars@noaa.gov.

ELIGIBILITY: Only individuals who are United States citizens currently pursuing or accepted to pursue a masters or doctoral level degree in oceanography, marine biology, or maritime archaeology, including the curation, preservation, and display of maritime artifacts, are eligible for an award under this scholarship program. Universities or other organizations may not apply on behalf of an individual. Prospective scholars do not need to be enrolled, but must be admitted to a graduate level program in order to apply for this scholarship. Eligibility must be maintained for each succeeding year of support and semi-annual reporting requirements, to be specified at a later date, will apply.

COST SHARING REQUIREMENTS: None.

INTERGOVERNMENTAL REVIEW: Applications under this program are not subject to Executive Order 12372, “Intergovernmental Review of Federal Programs”.

2. National Estuarine Research Reserve (NERR) Graduate Research Fellowship Program (GRF)

SUMMARY DESCRIPTION: The Estuarine Reserves Division of NOAA is soliciting applications for graduate fellowship funding within the National Estuarine Research Reserve System. The Estuarine Reserves Division anticipates that 31 Graduate Research Fellowships will be competitively awarded to qualified graduate students whose research occurs within the boundaries of at least one reserve. The National Estuarine Research Reserve Graduate Research Fellowship program is designed to fund high quality research focused on enhancing coastal zone management while providing students with an opportunity to contribute to the research or monitoring program at a particular reserve site. Students are required to work with the research coordinator or reserve manager to develop a plan to participate in the research or monitoring program for up to 15 hours per week. These management-related research projects will enhance scientific understanding of the Reserve ecosystem, provide information needed by Reserve management and coastal management decision-makers, and improve public awareness and understanding of estuarine ecosystems and estuarine management issues. Research projects must address one of the following scientific areas of support: non-point source pollution, biodiversity, invasive species, habitat restoration, sustaining resources in estuarine ecosystems, and socioeconomic research applicable to estuarine ecosystem management. The program priorities for this opportunity support NOAA's mission support goal of: Ecosystems - Protect, Restore, and Manage Use of Coastal and Ocean Resources through Ecosystem-Based Management.

FUNDING AVAILABILITY: The amount of the fellowship is anticipated to be $20,000; at least 30% of total project cost match is required by the applicant (i.e. $8,572 match for $20,000 in federal funds for a total project cost of $28,572). Applicants may apply for one to three years of funding.

STATUTORY AUTHORITY: 16 U.S.C. 1461 (e)(1)(B).

CATALOG OF FEDERAL DOMESTIC ASSISTANCE (CFDA) NUMBER: 11.420 Coastal Zone Management.

APPLICATION DEADLINE: Applications must be postmarked or received by November 1, 2006 no later than 11 p.m.(EST).

ADDRESS FOR SUBMITTING PROPOSALS: Applicants are strongly encouraged to submit applications through http://www.grants.gov. However, if internet access is unavailable, paper applications should be submitted to Susan White, Program Coordinator at NOAA/Estuarine Reserves Division, 1305 East-West Highway, N/ORM5, SSMC4, Station 10500, Silver Spring, MD 20910.

INFORMATION CONTACT: Susan White, NOAA's Estuarine Reserves Division; 1305 East-West Highway; SSMC4, Station 10500, N/ORM5; Silver Spring, MD 20910, or by phone at 301-713-3155 extension 124, or fax to 301-713-4363, email at susan.white@noaa.gov or http://www.nerrs.noaa.gov/fellowship. If Dr. White is unavailable, please contact Erica Seiden at 301-713-3155 ext. 172 or via email at erica.seiden@noaa.gov.

ELIGIBILITY: Institutions eligible to receive awards include institutions of higher education, other non-profits, commercial organizations, state, and local governments. Minority students are encouraged to apply to eligible institutions.

COST SHARING REQUIREMENTS: Requested federal funds must be matched by at least 30 percent of the TOTAL cost of the project, not a portion of only the federal share, (e.g. $8,572 match for $20,000 in federal funds for a total project cost of $28,572).

INTERGOVERNMENTAL REVIEW: Applications under this program are not subject to Executive Order 12372, “Intergovernmental Review of Federal Programs.”

Ocean and Atmospheric Research (OAR)

1. GradFell 2008 Dean John A. Knauss Marine Policy Fellowship (Knauss Fellowship Program)

SUMMARY DESCRIPTION: The Dean John A. Knauss Marine Policy Fellowship matches graduate students who have an interest in ocean, coastal and Great Lakes resources, and in the national policy and management decisions affecting these resources, with hosts in the Legislative and Executive branches of the Federal government for a one year paid fellowship. The program priorities for this opportunity support NOAA's mission support goal of: Ecosystems - Protect, Restore, and Manage Use of Coastal and Ocean Resources through Ecosystem-Based Management.

FUNDING AVAILABILITY: No less than 30 applicants will be selected. Up to 11 selected applicants will be assigned to the Congress. The overall cooperative agreement is $41,500 per student.

STATUTORY AUTHORITY: 33 U.S.C. 1127(b).

CATALOG OF FEDERAL DOMESTIC ASSISTANCE (CFDA) NUMBER: 11.417, Sea Grant Support.

APPLICATION DEADLINE: Eligible graduate students must submit applications to state Sea Grant college programs. State Sea Grant program deadlines vary. Contact the individual state Sea Grant program for due dates. SEA GRANT PROGRAMS: Selected applications from the sponsoring Sea Grant program are to be received in the National Sea Grant Office (NSGO) no later than 5 p.m. eastern standard time (EST) on April 5, 2007 through http://www.grants.gov. If an applicant is not from a state that has a Sea Grant program, the applicant can apply through the nearest Sea Grant program. Applicants should consult the Sea Grant program before submitting an application to it. Facsimile transmissions and electronic mail submission of applications will not be accepted. Hard copy applications will only be accepted if a Sea Grant program can justify in writing that internet access is not available to them at the time of submission. Hard copy applications must be received by the NSGO by 5 pm EST on April 5, 2007. Applications received after the deadline will not be reviewed.

ADDRESS FOR SUBMITTING APPLICATIONS: Applications from Sea Grant programs should be submitted through http://www.grants.gov. Hard copy justification and applications should be submitted to: Dr. Jacques L. Oliver, Program Manager, Knauss Fellowship Program, National Sea Grant College Program, 1315 East-West Highway, Silver Spring, MD 20910.

INFORMATION CONTACT(S): Dr. Jacques L. Oliver, Program Manager, Knauss Fellowship Program, National Sea Grant College Program, 1315 East-West Highway, Silver Spring, MD 20910; tel: (301) 713-2431 ext. 124. Inquiries can also be made to any state Sea Grant Program. Contact information for state Sea Grant Programs can be found at: http://www.seagrant.noaa.gov/other/programsdirectors.html.

ELIGIBILITY: Any student, regardless of citizenship, who, on April 5, 2007, is in a graduate or professional program in a marine or aquatic-related field at a United States-accredited institution of higher education in the United States or U.S. Territories may apply.

COST SHARING REQUIREMENTS: There will be one-third required cost share for those applicants selected as legislative fellows.

INTERGOVERNMENTAL REVIEW: Applications under this program are not subject to Executive Order 12372, Intergovernmental Review of Federal Programs.

SUPPLEMENTARY INFORMATION: Sea Grant states are: Alabama; Alaska; California; Connecticut; Delaware; Florida; Georgia; Hawaii; Illinois, Indiana, Louisiana; Maine; Maryland; Massachusetts; Michigan; Minnesota; Mississippi; New York; New Hampshire; New Jersey; North Carolina; Ohio; Oregon; Pennsylvania; Puerto Rico; Rhode Island; South Carolina; Texas; Vermont; Virginia; Washington; and Wisconsin. Information and internet links to state Sea Grant Programs can be found at: http://www.seagrant.noaa.gov/colleges/colleges.html.

2. GradFell 2007 NMFS - Sea Grant Joint Graduate Fellowship Program in Marine Resource Economics

SUMMARY DESCRIPTION: NOAA's mission is to understand and predict changes in Earth's environment and conserve and manage coastal and marine resources to meet our Nation's economic, social, and environmental needs. One of NOAA's mission-supporting goals is to protect, restore, and manage the use of coastal and ocean resources through an ecosystem approach to management. In that context, the National Sea Grant College Program (Sea Grant) is seeking applications for one of its fellowship programs to fulfill its broad educational responsibilities and to strengthen the collaboration between Sea Grant and NMFS. Fellows will work on thesis problems of public interest and relevance to NMFS and work with NMFS mentors at participating NMFS Science Centers or Laboratories. The program priorities for this opportunity support NOAA's mission support goal of: Ecosystems - Protect, Restore, and Manage Use of Coastal and Ocean Resources through Ecosystem-Based Management.

FUNDING AVAILABILITY: The NMFS Sea Grant Joint Graduate Fellowship Program in Marine Resource Economics expects to support two new Fellows for 2 years beginning in FY 2007. The award for each fellowship will be a cooperative agreement of $40,000 per year, with an anticipated start date of June 1, 2007.

STATUTORY AUTHORITY: 33 U.S.C. 1127(a).

CATALOG OF FEDERAL DOMESTIC ASSISTANCE NUMBER: 11.417, Sea Grant Support.

APPLICATION DEADLINE: Applications should be submitted electronically through the Federal grants portal - http://www.grants.gov - by the sponsoring Sea Grant program. Applications must be received by the National Sea Grant Office (NSGO) by 4 p.m. EST on February 16, 2007. Local Sea Grant programs may wish to set an internal deadline one week prior to the National Sea Grant Office receipt date deadline to facilitate the entry of non-electronic applications into Grants.gov.

ADDRESS FOR SUBMITTING APPLICATIONS: Applications from Sea Grant programs should be submitted through http://www.grants.gov. Facsimile transmissions and electronic mail submission of applications will not be accepted.

INFORMATION CONTACT: Dr. Terry Smith, National Sea Grant College Program, 1315 East-West Highway, Silver Spring, MD 20910; tel: (301) 713-2435 ext. 144; e-mail: Terry.Smith@noaa.gov; any state Sea Grant Program; or any participating NMFS facility.

ELIGIBILITY: Prospective Fellows must be United States citizens. At the time of application, prospective Marine Resource Economics Fellows must be admitted to a PhD degree program in natural resource economics or a related field at an institution of higher education in the United States or its territories, or submit a signed letter from the institution indicating provisional acceptance to a PhD degree program conditional on obtaining financial support such as this fellowship. Applications must be submitted through the local Sea Grant program and approved by the institution of higher education.

COST SHARING REQUIREMENTS: Required 50 percent match of the NSGO funds by the academic institution (i.e., $6,667/year).

INTERGOVERNMENTAL REVIEW: Applications under this program are not subject to Executive Order 12372, “Intergovernmental Review of Federal Programs.”

3. Gradfell 2007 NMFS - Sea Grant Joint Graduate Fellowship Program in Population Dynamics

SUMMARY DESCRIPTION: NOAA's mission is to understand and predict changes in Earth's environment and conserve and manage coastal and marine resources to meet our Nation's economic, social, and environmental needs. One of NOAA's mission-supporting goals is to protect, restore, and manage the use of coastal and ocean resources through an ecosystem approach to management. In that context, the National Sea Grant College Program (Sea Grant) is seeking applications for one of its fellowship programs to fulfill its broad educational responsibilities and to strengthen the collaboration between Sea Grant and the NOAA Fisheries Service (NMFS). Fellows will work on thesis problems of public interest and relevance to NMFS and work with NMFS mentors at participating NMFS Science Centers or Laboratories.

The program priorities for this opportunity support NOAA's mission support goal of: Ecosystems - Protect, Restore, and Manage Use of Coastal and Ocean Resources through Ecosystem-Based Management.

FUNDING AVAILABILITY: The NMFS Sea Grant Joint Graduate Fellowship Program in Population Dynamics expects to support at least two new Fellows for 3 years beginning in FY 2007. The award for each fellowship will be a cooperative agreement of $40,000 per year, with an anticipated start date of June 1, 2007.

STATUTORY AUTHORITY: 33 U.S.C. 1127(a).

CATALOG OF FEDERAL DOMESTIC ASSISTANCE (CFDA) NUMBER: 11.417, Sea Grant Support.

APPLICATION DEADLINE: Applications should be submitted electronically through the Federal grants portal - http://www.grants.gov - by the sponsoring Sea Grant program. Applications must be received by the National Sea Grant Office (NSGO) by 4 p.m. EST on February 16, 2007. Local Sea Grant programs may wish to set an internal deadline one week prior to the National Sea Grant Office receipt date deadline to facilitate the entry of non-electronic applications into Grants.gov.

ADDRESS FOR SUBMITTING APPLICATIONS: Applications from Sea Grant programs should be submitted through http://www.grants.gov. Facsimile transmissions and electronic mail submission of applications will not be accepted.

INFORMATION CONTACT: Dr. Terry Smith, National Sea Grant College Program, 1315 East-West Highway, Silver Spring, MD 20910; tel: (301) 713-2435 ext. 144; e-mail: Terry.Smith@noaa.gov; any state Sea Grant Program; or any participating NMFS facility.

ELIGIBILITY: Prospective Fellows must be United States citizens. At the time of application, prospective Population Dynamics Fellows must be admitted to a PhD degree program in population dynamics or a related field such as applied mathematics, statistics, or quantitative ecology at an institution of higher education in the United States or its territories, or submit a signed letter from the institution indicating provisional acceptance to a PhD degree program conditional on obtaining financial support such as this fellowship. Applications must be submitted through the local Sea Grant program and approved by the institution of higher education.

COST SHARING REQUIREMENTS: Required 50 percent match of the NSGO funds by the academic institution (i.e., $6,667/year).

INTERGOVERNMENTAL REVIEW: Applications under this program are not subject to Executive Order 12372, “Intergovernmental Review of Federal Programs”.

Non-Competitive Project

The following entry provides the description and requirements of NOAA's noncompetitive project.

NOAA Coral Reef Conservation Grant Program - Coral Reef Ecosystem Research Grants

SUMMARY DESCRIPTION: The NOAA Coral Reef Conservation Grant Program announces that it is providing funding to the NOAA Undersea Research Program (NURP) Centers for: the Caribbean Region, the Caribbean Marine Research Center; the Southeastern U.S., Florida, and Gulf of Mexico Region, the Southeast U.S. and Gulf of Mexico Center; and the Hawaii and Western Pacific Region, the Hawaii Undersea Research Laboratory to administer three external, competitive coral reef ecosystem research grants programs. Research supported through these programs will address priority information needs identified by coral reef ecosystem managers and scientists. Broad coral reef research priorities supported through these programs may include research on coral disease and bleaching, fisheries population dynamics and ecology, coral reef restoration and mitigation approaches, effects of anthropogenic stressors on benthic invertebrates, impacts and spread of invasive species, and evaluation of management actions and strategies. Specific priorities within these broad areas, and geographic preferences, will be indicated in each NURP Center's request for proposals. The NURP Center external coral reef research grants programs are part of the NOAA Coral Reef Conservation Grants Program under the Coral Reef Conservation Act of 2000. The program priorities for this opportunity support NOAA's mission support goal of: Ecosystems - Protect, Restore, and Manage Use of Coastal and Ocean Resources through Ecosystem-Based Management.

FUNDING AVAILABILITY: Approximately $600,000 may be available in FY 2007 to support awards under this program.

STATUTORY AUTHORITY: Statutory authority for this program is provided under 16 U.S.C. 6403.

CATALOG OF FEDERAL DOMESTIC ASSISTANCE (CFDA) Number: 11.430, National Undersea Research Program.

INFORMATION CONTACT: Kimberly Puglise, 301-713-2427, extension 199 or e-mail at kimberly.puglise@noaa.gov. Announcements requesting proposals will be announced on: http://www.uncw.edu/nurc, for the NURP Center for the Southeastern U.S. and the Gulf of Mexico; http://www.perryinstitute.org, for the NURP Center for the Caribbean, the Caribbean Marine Research Center; and http://www.soest.hawaii.edu/HURL/, for the NURP Center for Hawaii and the Western Pacific, the Hawaii Undersea Research Laboratory.

COST SHARING REQUIREMENTS: The awards require a 1:1 federal to non-federal match.

INTERGOVERNMENTAL REVIEW: Applications under this program are not subject to Executive Order 12372, “Intergovernmental Review of Federal Programs.”

Limitation of Liability

Funding for programs listed in this notice is contingent upon the availability of Fiscal Year 2007 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (67 FR 66177) for additional information. Organizations can receive a DUNS number at no cost by calling the dedicated toll-free DUNS Number request line at 1-866-705-5711 or via the internet http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_--6_--TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial ofnot selecting an application. In some cases if additional information is required after an application is selected, funds can be withheld by the Grants Officer under a special award condition requiring the recipient to submit additional environmental compliance information sufficient to enable NOAA to make an assessment on any impacts that a project may have on the environment.

Compliance with Department of Commerce Bureau of Industry and Security Export Administration Regulations

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic I Arms Regulations (ITAR) (22 CFR parts 120-130), implemented by the Department of State, respectively. This includes, but is not limited to, dual-us items, defense articles and any related assistance, services, software or technical data as defined in the EAR and ITAR.

(d) The recipient shall control access to all export-controlled information and technology that it possesses or that comes into its possession in performance of this financial assistance award, to ensure that access is restricted, or licensed, as required by applicable Federal laws, Executive Orders, and/or regulations.

(e) Nothing in the terms of this financial assistance award is intended to change, supersede, or waive and of the requirements of applicable Federal laws, Executive Orders or regulations.

(f) The recipient shall include this clause, including this paragraph (f), in all lower tier transactions (subawards, contracts, and subcontracts) under this financial assistance award that may involve access to export-controlled information technology.

NOAA implementation of Homeland Security Presidential Directive - 12

If the performance of a financial assistance award, if approved by NOAA, requires recipients to have physical access to Federal premises for more than 180 days or access to a Federal information system. Any items or services delivered under a financial assistance award shall comply with the Department of Commerce personal identity verification procedures that implement Homeland Security Presidential Directive -12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements. The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424 and 424A, 424B, SF LLL, CD-346, SF 424 Research and Related Family, SF 424 Short Organizational Family, SF 424 Individual Form family has been approved by the Office of Management and Budget (OMB) under the respective control numbers 4040-0004, 0348-0044, 0348-0040, 0348-0046, 0605-0001, 4040-0001, 4040-0003, and 4040-0005. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 1, 2006.
Daniel L. Clever,
Deputy Director Acquisition and Grants Office, National Oceanic and Atmospheric Administration.

[FR Doc. 06-5225 Filed 6-9-06; 8:45 am]

BILLING CODE 3510-12-S